POSTAL SERVICE

39 CFR Part 20

International Product and Pricing Initiatives

AGENCY: Postal Service.

ACTION: Proposed rule.

SUMMARY: The Postal Service ™ is proposing a major redesign of its international products including changes in prices and mail classifications. There are two main features of this redesign.

First, we propose to more closely align our international products with their domestic counterparts for ease of use and added value to customers. This will be accomplished by merging eight current options into four alternatives by combining products with overlapping service standards and prices. We propose to rename the international products to mirror comparable domestic product names.

Proposed enhancements to our international products would include increasing customer convenience through the use of domestic packaging supplies, offering the popular flat-rate envelope option in Express Mail International and adding the flat-rate box option to Priority Mail International. We would also offer more specific delivery time and tracking information to major destinations.

The second main feature of the redesign includes a proposal to increase international product prices an average of 13 percent necessitated by cost increases that occurred during a price freeze from January 2001 through January 2006. The price increase also addresses changes in market dynamics while remaining below the cumulative change in the Consumer Price Index.

If adopted, the product redesign and prices that we propose in this notice would become effective when we change our domestic prices (that proposal is currently before the Postal Rate Commission in Docket No. R2006-1).

DATES: Submit comments on or before January 19, 2007.

ADDRESSES: Mail or deliver comments to the Manager, Mailing Standards, U.S. Postal Service, 475 L'Enfant Plaza, SW., RM 3436, Washington, DC 20260-3436. You may also fax written comments to 202-268-4955. You may inspect and photocopy all written comments between 9 a.m. and 4 p.m., Monday through Friday, at Postal Service Headquarters Library, 11th Floor North, 475 L'Enfant Plaza, SW., Washington DC.

FOR FURTHER INFORMATION CONTACT: Obataiye B. Akinwole, 202-268-7262; Thomas P. Philson, 202-268-7355; or Janet Mitchell, 202-268-7522.

SUPPLEMENTARY INFORMATION: The Postal Service is proposing a major redesign of its international products including changes in prices and mail classifications. The proposed changes are the first since January 2001 to include structural changes and a realignment of our services.

Currently, customers can send letters and packages using one of eight different mailing options. Our proposal will simplify the international product offering from eight products to four products which closely mirror the domestic products that so many individual and small business customers are familiar with. This will be accomplished by combining existing air services and surface products. In addition to simplifying the product line, we will provide more specific service standards for each of our products. Table 1 outlines our product restructuring and proposed features.

Table 1
Current products | Proposed products | Proposed features
Global Express® Guaranteed (documents) | Global Express Guaranteed | ▪ 1-3 days.
Global Express Guaranteed (non-document) |  | ▪ Track and trace.
|  | ▪ Money-back delivery guarantee*.
|  | ▪ Insurance included.
Global Express Mail® | Express Mail International. | ▪ 3-5 days.
|  | ▪ Tracking to major destinations.
|  | ▪ Service guarantee to Australia, China, Hong Kong, South Korea, and Japan.
|  | ▪ Insurance included.
|  | ▪ Flat-rate envelope.
Airmail Parcel Post | Priority Mail International. | ▪ 5-8 days.
Economy Parcel Post |  | ▪ Tracking to major destinations.
Global Priority Mail® |  | ▪ Insurance available.
|  | ▪ Flat-rate envelopes for letters and flat rate boxes for parcels.
Airmail Letter Post | First-Class Mail International | ▪ 4-7 days.
Economy Letter Post |  | ▪ Registered service available.
*Some restrictions apply—Refer to terms and conditions on the back of mailing label for details.

Customers will be able to use the familiar expedited domestic supplies for their expedited international shipping. We are also proposing adding the popular flat-rate envelope as an option in Express Mail International, and maintaining the flat-rate envelope option and adding the flat-rate box option to Priority Mail International using the existing domestic supplies. Customers can continue to use existing international packaging while supplies are available.

We propose to increase prices of international products by an average of 13 percent. International prices were essentially frozen from January 2001 to January 2006. This freeze was followed by a 5.9 percent increase on January 7, 2006. Since 2001, our costs have been increasing and alternative carriers have been making yearly increases to their prices. This has resulted in international prices lagging behind both the Consumer Price Index (CPI) and the prices offered by alternative carriers on comparable products. Even with the proposed changes, our comparable services will still be priced lower than those of other international carriers.

Customers who purchase postage using Click-N-Ship, at http://www.usps.com, or through an authorized online provider, will receive discounts of 10 percent on Global Express Guaranteed shipments, 8 percent on Express Mail International shipments, and 5 percent on Priority Mail International shipments.

As with our domestic price change proposal (http://www.usps.com/ratecase), the proposal for international mail reflects changes in operations and in the marketplace. Both our domestic and international proposals will enhance efficiency, offer attractive choices, and ensure that all types of mail cover their costs.

The following sections describe the realignment of international products.

Global Express Guaranteed ®

Global Express Guaranteed ® (GXG) ® service is an international expedited delivery service provided through an alliance with FedEx Express. GXG provides reliable, high-speed, date-certain service with money-back delivery guarantee to over 190 countries. We propose to simplify the pricing structure of Global Express Guaranteed by combining the existing document and non-document price structure into one. We are proposing an average price increase of 10.1 percent for GXG.

Express Mail International

The Postal Service is proposing Global Express Mail be renamed Express Mail International. The renamed Express Mail International would continue to provide reliable, high speed service to over 190 countries with money back delivery guarantee to select destinations. Document reconstruction insurance and merchandise insurance up to $100 are provided at no additional cost. Optional additional merchandise insurance is available for a fee.

We are proposing to regroup Express Mail International's destination country rate groups based on geography and market factors. This will consolidate 13 country groups into 10. An additional customer convenience includes offering two flat-rate envelope prices, one for Canada and Mexico, and one for all other countries.

We will offer more specific service standards for Express Mail International to help customers decide if this is the right option for them. Average-days-for-delivery information to major destinations will be available via our online postage rate calculator as well as at Post Offices. We are proposing an average price increase of 18.6 percent for Express Mail International.

Priority Mail International

The Postal Service proposes to combine three overlapping services—air parcel post, Global Priority Mail, and economy parcel post—into a single new service—“Priority Mail International.” Service will be available to over 190 countries. Priority Mail International service will offer the same flat rate packaging as domestic Priority Mail including a flat-rate envelope and two flat-rate box options. Two flat-rate box prices will be offered, one for Canada and Mexico, and one for all other countries. We will offer one flat-rate envelope with two prices, one for Canada and Mexico, and one for all other countries. Letters are not mailable in the flat-rate box but will be allowed in the flat-rate envelope.

We propose to regroup countries based on geography and market factors. This will consolidate 14 country groups into the same 10 country groups proposed for Express Mail International.

We will provide more specific service standards for Priority Mail International to help customers decide if this is the right option for them. Average-days-for-delivery information to all major destinations will be available via our online postage rate calculator as well as at Post Offices. Additional tracking information and extra services will be available for Priority Mail International. We are proposing an average price increase of 16.7 percent for Priority Mail International.

First-Class Mail International

The Postal Service proposes to combine three overlapping services—airmail letters, economy letters, and aerogrammes—into a new single service—“First-Class Mail International.” The new service is for letters, postcards, and other items weighing up to 4 pounds.

The service standard for First-Class Mail International will be a range of days for delivery and would be priced lower than GXG, Express Mail International, and Priority Mail International. We are proposing an average price increase of 8.6 percent for First-Class Mail International letters and 21.0 percent for postcards.

M-bags

M-bags, which are direct sacks of printed matter to one addressee. They are priced based on the weight of the bag. We are proposing to combine two overlapping services, Airmail M-bags and Economy M-bags. Under the new service, M-bags will travel by air transportation. We are proposing an average price increase for M-bags of 7.7 percent.

International Priority Airmail (IPA)

International Priority Airmail ™ (IPA ®) is a bulk air letter service for First-Class Mail International items. Presort, nonpresort, and drop ship discounts are available. Volume discounts are available through the International Customized Mail (ICM) program for commercial customers who meet minimum program requirements. We are proposing an average price increase of 14.1 percent.

International Surface Air Lift

The Postal Service is proposing to combine three overlapping services; International Surface Air Lift ® (ISAL ®), Publishers' Periodicals, and Books and Sheet Music.

ISAL is a bulk mailing service for First-Class Mail International items. There is a 50-pound minimum per mailing. Presort and drop ship discounts are available. Volume discounts are available through the ICM program for commercial customers who meet minimum program requirements. We are proposing an average price increase of 13.1 percent for International Surface Air Lift.

International Surface Air Lift M-bags

M-bags (direct sacks of printed matter sent to one addressee) can be sent using ISAL service. We are proposing an average price increase of 2.8 percent for International Surface Air Lift M-bags.

Extra Services

The structure of international extra services, formerly special services, would remain the same. However, because of a lack of customer demand, we are proposing to eliminate Recorded Delivery, the international equivalent to domestic Certified Mail ™. In fiscal year 2005, revenue was approximately $3,000 on slightly over 1,000 transactions. The alternative for the few customers who currently use Recorded Delivery would be Registered Mail ™.

We are proposing to remove other extra services associated with economy mail: Economy Registered and Economy Insured. Fees for international extra services linked to domestic fees are currently under review by the Postal Rate Commission and are outside the scope of this proposal. All other international extra services fees are included in this proposal.

Table 2 is a price comparison of current and proposed international extra services.

Table 2
Service | Current Fee (dollars) | Proposed Fee (dollars) | Unit Change (dollars) | Percent Change (percent)
Postal Money Order | 3.45 | 3.85 | 0.40 | 11.6
International Reply Coupon | 1.85 | 2.00 | 0.15 | 8.1
Business Reply Card | 0.84 | 0.90 | 0.06 | 7.1
Business Reply Envelope | 1.25 | 1.40 | 0.15 | 12.0
Customs Clearance | 4.75 | 5.35 | 0.60 | 12.6
Recorded Delivery | 2.40 | (²) | (²) | (²)
Priority Mail International Insurance ¹ | 1.95 | 2.40 | 0.45 | 23.1
¹ $50 insurance to all other countries.
² Not applicable.

Table 3 provides a list of all available service.

Table 3
Extra services linked to domestic fees | Extra services not linked to domestic fees
Certificate of Mailing | Insurance ¹.
Express Mail Merchandise Insurance over $100 | International Business Reply Mail.
Restricted Delivery | International Reply Coupons.
Return Receipt—Hard copy | Customs Clearance and Delivery Fee.
Registered Mail
Pickup Fee
Priority Mail International Insurance ²
¹ Insurance fees for Canada are linked to domestic fees.
² $50 insurance to Canada.

Rate Group Assignments

The Postal Service proposes to reassign some countries from one rate group to another because of changes in operations and to simplify the rate group structure. We list the country rate group assignments in the table below.

Country Listing
Country | GXG rate group | Express mail international rate group | Priority mail international rate group | First class mail international rate group | IPA & ISAL ¹
A
Afghanistan | 6 | — | 5 | 5 | 8
Albania | 4 | 4 | 4 | 5 | 5
Algeria | 4 | 8 | 8 | 5 | 8
Andorra | 5 | 5 | 5 | 3 | 3
Angola | 4 | 7 | 7 | 5 | 8
Anguilla | 7 | 9 | 9 | 5 | 6
Antigua & Barbuda | 7 | — | 9 | 5 | 6
Argentina | 8 | 9 | 9 | 5 | 6
Armenia | 4 | 4 | 4 | 5 | 8
Aruba | 7 | 9 | 9 | 5 | 6
Ascension | — | — | — | 5 | 5
Australia | 6 | 3 | 3 | 4 | 9
Austria | 5 | 5 | 5 | 3 | 3
Azerbaijan | 4 | 4 | 4 | 5 | 8
B
Bahamas | 7 | 9 | 9 | 5 | 6
Bahrain | 6 | 8 | 8 | 5 | 8
Bangladesh | 6 | 6 | 6 | 5 | 8
Barbados | 7 | 9 | 9 | 5 | 6
Belarus | 4 | 4 | 4 | 5 | 5
Belgium | 3 | 5 | 5 | 3 | 3
Belize | 8 | 9 | 9 | 5 | 6
Benin | 4 | 7 | 7 | 5 | 8
Bermuda | 7 | 9 | 9 | 5 | 6
Bhutan | 6 | 6 | 6 | 5 | 8
Bolivia | 8 | 9 | 9 | 5 | 6
Bosnia-Herzegovina | 4 | 4 | 4 | 5 | 5
Botswana | 4 | 7 | 7 | 5 | 8
Brazil | 8 | 9 | 9 | 5 | 6
British Virgin Islands | 7 | — | 9 | 5 | 6
Brunei Darussalam | 4 | 6 | 6 | 5 | 7
Bulgaria | 4 | 4 | 4 | 5 | 5
Burkina Faso | 4 | 7 | 7 | 5 | 8
Burma (Myanmar) | — | 6 | 6 | 5 | 8
Burundi | 4 | 7 | 7 | 5 | 8
C
Cambodia | 8 | 6 | 6 | 5 | 7
Cameroon | 4 | 7 | 7 | 5 | 8
Canada | 1 | 1 | 1 | 1 | 1
Cape Verde | 4 | 7 | 7 | 5 | 8
Cayman Islands | 7 | 9 | 9 | 5 | 6
Central African Republic | 4 | 7 | 7 | 5 | 8
Chad | 4 | 7 | 7 | 5 | 8
Chile | 8 | 9 | 9 | 5 | 6
China | 6 | 3 | 3 | 5 | 7
Colombia | 8 | 9 | 9 | 5 | 6
Comoros | — | — | 7 | 5 | 8
Congo, Democratic | 4 | 7 | 7 | 5 | 8
Republic of the Congo, Republic of the | 4 | 7 | 7 | 5 | 8
Costa Rica | 8 | 9 | 9 | 5 | 6
Cote d'Ivoire (Ivory Coast) | 4 | 7 | 7 | 5 | 8
Croatia | 4 | 4 | 4 | 5 | 5
Cuba | — | — | — | 5 | 6
Cyprus | 6 | 4 | 4 | 5 | 8
Czech Republic | 4 | 4 | 4 | 5 | 5
D
Denmark | 5 | 5 | 5 | 3 | 3
Djibouti | 4 | 7 | 7 | 5 | 8
Dominica | 7 | 9 | 9 | 5 | 6
Dominican Republic | 7 | 9 | 9 | 5 | 6
E
Ecuador | 8 | 9 | 9 | 5 | 6
Egypt | 6 | 8 | 8 | 5 | 8
El Salvador | 8 | 9 | 9 | 5 | 6
Equatorial Guinea | 4 | 7 | 7 | 5 | 8
Eritrea | 4 | 7 | 7 | 5 | 8
Estonia | 4 | 4 | 4 | 5 | 5
Ethiopia | 4 | 8 | 8 | 5 | 8
F
Falkland Islands | — | — | — | 5 | 6
Faroe Islands | 5 | 5 | 5 | 3 | 5
Fiji | 8 | 6 | 6 | 5 | 7
Finland | 5 | 5 | 5 | 3 | 3
France | 3 | 5 | 5 | 3 | 3
French Guiana | 8 | 9 | 9 | 5 | 6
French Polynesia | 4 | 6 | 6 | 5 | 7
G
Gabon | 4 | 7 | 7 | 5 | 8
Gambia | 4 | — | 7 | 5 | 8
Georgia, Republic of | 4 | 4 | 4 | 5 | 8
Germany | 3 | 5 | 5 | 3 | 3
Ghana | 4 | 7 | 7 | 5 | 8
Gibraltar | 4 | — | 5 | 3 | 3
Great Britain & Northern Ireland | 3 | 5 | 5 | 3 | 3
Greece | 5 | 5 | 5 | 3 | 3
Greenland | 5 | — | 4 | 3 | 3
Grenada | 7 | 9 | 9 | 5 | 6
Guadeloupe | 7 | 9 | 9 | 5 | 6
Guatemala | 8 | 9 | 9 | 5 | 6
Guinea | 4 | 7 | 7 | 5 | 8
Guinea-Bissau | 4 | 7 | 7 | 5 | 8
Guyana | 8 | 9 | 9 | 5 | 6
H
Haiti | 7 | 9 | 9 | 5 | 6
Honduras | 8 | 9 | 9 | 5 | 6
Hong Kong | 3 | 3 | 3 | 5 | 7
Hungary | 4 | 4 | 4 | 5 | 5
I
Iceland | 5 | 5 | 5 | 3 | 3
India | 6 | 6 | 6 | 5 | 8
Indonesia | 6 | 6 | 6 | 5 | 7
Iran | — | — | 8 | 5 | 8
Iraq | 6 | 8 | 8 | 5 | 8
Ireland (Eire) | 3 | 5 | 5 | 3 | 3
Israel | 6 | 8 | 8 | 3 | 3
Italy | 3 | 5 | 5 | 3 | 3
J
Jamaica | 7 | 9 | 9 | 5 | 6
Japan | 3 | 3 | 3 | 4 | 4
Jordan | 6 | 8 | 8 | 5 | 8
K
Kazakhstan | 4 | 6 | 6 | 5 | 8
Kenya | 4 | 7 | 7 | 5 | 8
Kiribati | — | — | 6 | 5 | 7
Korea, Democratic People's Republic of (North) | — | — | — | 5 | 7
Korea, Republic of (South) | 6 | 3 | 3 | 5 | 7
Kuwait | 6 | 8 | 8 | 5 | 8
Kyrgyzstan | 4 | 6 | 6 | 5 | 5
L
Laos | 8 | 6 | 6 | 5 | 7
Latvia | 4 | 4 | 4 | 5 | 5
Lebanon | 6 | — | 8 | 5 | 8
Lesotho | 4 | 7 | 7 | 5 | 8
Liberia | 4 | 7 | 7 | 5 | 8
Libya | — | — | 8 | 5 | 8
Liechtenstein | 5 | 5 | 5 | 3 | 3
Lithuania | 4 | 4 | 4 | 5 | 5
Luxembourg | 3 | 5 | 5 | 3 | 3
M
Macao | 3 | 6 | 6 | 5 | 5
Macedonia, Republic of | 4 | 4 | 4 | 5 | 5
Madagascar | 4 | 7 | 7 | 5 | 8
Malawi | 4 | 7 | 7 | 5 | 8
Malaysia | 6 | 6 | 6 | 5 | 7
Maldives | 6 | 6 | 6 | 5 | 8
Mali | 4 | 7 | 7 | 5 | 8
Malta | 5 | 5 | 5 | 5 | 8
Marshall Islands | 4 | 10 | 10 | 6 | 3
Martinique | 7 | 9 | 9 | 5 | 6
Mauritania | 4 | 7 | 7 | 5 | 8
Mauritius | 4 | 7 | 7 | 5 | 8
Mexico | 2 | 2 | 2 | 2 | 2
Micronesia, Federated States of | 4 | 10 | 10 | 6 | 3
Moldova | 4 | 4 | 4 | 5 | 8
Mongolia | 4 | 6 | 6 | 5 | 7
Montserrat | 7 | — | 9 | 5 | 6
Morocco | 4 | 8 | 8 | 5 | 8
Mozambique | 4 | 7 | 7 | 5 | 8
N
Namibia | 4 | 7 | 7 | 5 | 8
Nauru | — | 6 | 6 | 5 | 7
Nepal | 6 | 6 | 6 | 5 | 7
Netherlands | 3 | 5 | 5 | 3 | 3
Netherlands Antilles | 7 | 9 | 9 | 5 | 6
New Caledonia | 8 | 6 | 6 | 5 | 7
New Zealand | 6 | 6 | 6 | 4 | 4
Nicaragua | 8 | 9 | 9 | 5 | 6
Niger | 4 | 7 | 7 | 5 | 8
Nigeria | 4 | 7 | 7 | 5 | 8
Norway | 5 | 5 | 5 | 3 | 3
O
Oman | 6 | 8 | 8 | 5 | 8
P
Pakistan | 6 | 6 | 6 | 5 | 8
Panama | 8 | 9 | 9 | 5 | 6
Papua New Guinea | 8 | 6 | 6 | 5 | 7
Paraguay | 8 | 9 | 9 | 5 | 6
Peru | 8 | 9 | 9 | 5 | 6
Philippines | 6 | 6 | 6 | 5 | 7
Pitcairn Island | — | — | 6 | 5 | 7
Poland | 4 | 4 | 4 | 5 | 5
Portugal | 5 | 5 | 5 | 3 | 3
Q
Qatar | 6 | 8 | 8 | 5 | 8
R
Reunion | 4 | — | 9 | 5 | 8
Romania | 4 | 4 | 4 | 5 | 5
Russia | 4 | 4 | 4 | 5 | 5
Rwanda | 4 | 7 | 7 | 5 | 8
S
St. Christopher (St. Kitts) & Nevis | 7 | 9 | 9 | 5 | 6
Saint Helena | — | — | 7 | 5 | 8
Saint Lucia | 7 | 9 | 9 | 5 | 6
Saint Pierre & Miquelon | — | — | 4 | 5 | 6
Saint Vincent & Grenadines | 7 | 9 | 9 | 5 | 6
San Marino | 3 | 5 | 5 | 3 | 3
Sao Tome & Principe | — | — | 7 | 5 | 5
Saudi Arabia | 4 | 8 | 8 | 5 | 8
Senegal | 4 | 7 | 7 | 5 | 8
Serbia-Montenegro (Yugoslavia) | 4 | 5 | 5 | 5 | 5
Seychelles | 4 | 7 | 7 | 5 | 8
Sierra Leone | 4 | 7 | 7 | 5 | 8
Singapore | 3 | 6 | 6 | 5 | 7
Slovak Republic (Slovakia) | 4 | 5 | 5 | 5 | 5
Slovenia | 4 | 5 | 5 | 5 | 5
Solomon Islands | — | 6 | 6 | 5 | 7
Somalia | — | — | — | — | 8
South Africa | 4 | 7 | 7 | 5 | 8
Spain | 5 | 5 | 5 | 3 | 3
Sri Lanka | 6 | 6 | 6 | 5 | 8
Sudan | — | 7 | 7 | 5 | 8
Suriname | 8 | — | 9 | 5 | 6
Swaziland | 4 | 7 | 7 | 5 | 8
Sweden | 5 | 5 | 5 | 3 | 3
Switzerland | 5 | 5 | 5 | 3 | 3
Syrian Arab Republic (Syria) | 6 | 8 | 8 | 5 | 8
T
Taiwan | 3 | 6 | 6 | 5 | 7
Tajikistan | — | 6 | 6 | 5 | 8
Tanzania | 4 | 7 | 7 | 5 | 8
Thailand | 6 | 6 | 6 | 5 | 7
Togo | 4 | 7 | 7 | 5 | 8
Tonga | 4 | — | 6 | 5 | 7
Trinidad & Tobago | 7 | 9 | 9 | 5 | 6
Tristan da Cunha | — | — | 7 | 5 | 8
Tunisia | 4 | 8 | 8 | 5 | 8
Turkey | 6 | 4 | 4 | 5 | 5
Turkmenistan | 4 | 6 | 6 | 5 | 5
Turks & Caicos Islands | 7 | — | 9 | 5 | 6
Tuvalu | — | — | 6 | 5 | 7
U
Uganda | 4 | 7 | 7 | 5 | 8
Ukraine | 4 | 4 | 4 | 5 | 8
United Arab Emirates | 6 | 8 | 8 | 5 | 8
Uruguay | 8 | 9 | 9 | 5 | 6
Uzbekistan | 4 | 6 | 6 | 5 | 8
V
Vanuatu | 8 | 6 | 6 | 5 | 7
Vatican City | 3 | 5 | 5 | 3 | 3
Venezuela | 8 | 9 | 9 | 5 | 6
Vietnam | 6 | 6 | 6 | 5 | 7
W
Wallis & Futuna Islands | 4 | — | 6 | 5 | 7
Western Samoa | 4 | 6 | 6 | 5 | 7
Y
Yemen | 6 | 8 | 8 | 5 | 8
Z
Zambia | 4 | 7 | 7 | 5 | 8
Zimbabwe | 4 | 7 | 7 | 5 | 8

Effective Date

If adopted, the rates, fees, and conditions for mailing that are proposed in this notice will be effective when we change domestic postage pricing in spring 2007. The Postal Service Board of Governors will set the effective date after the domestic mail proceedings currently before the Postal Rate Commission in Docket No. R2006-1 are concluded.

Although the Postal service is exempt from the notice and comment requirements of the Administrative Procedure Act [5 U.S.C. 553(b), (c)] regarding proposed rulemaking by 39 U.S.C. 410(a), your comments are invited on the following proposed revisions to the International Mail Manual (IMM), incorporated by reference in the Code of Federal Regulations. See 39 CFR 20.1.

List of Subjects in 39 CFR Part 20

Foreign Relations, International postal services.

PART 20—[AMENDED]

1. The authority citation for 39 CFR part 20 continues to read as follows:

Authority: 5 U.S.C. 552(a); 39 U.S.C. 401, 404, 407, 408.

2. Amend the Mailing Standards of the United States Postal Service, International Mail Manual (IMM) to incorporate the following rates and fees:

International Rates And Fees

Global Express Guaranteed
Weight Not Over (Pounds) | Rate Group 1 | Rate Group 2 | Rate Group 3 | Rate Group 4 | Rate Group 5 | Rate Group 6 | Rate Group 7 | Rate Group 8
0.5 | $28.50 | $28.75 | $37.00 | $38.00 | $75.00 | $52.00 | $37.00 | $38.00
1 | $41.00 | $42.50 | $49.00 | $58.00 | $93.00 | $65.00 | $47.00 | $55.00
2 | $44.50 | $47.50 | $56.00 | $65.75 | $107.75 | $80.90 | $54.20 | $63.45
3 | $48.00 | $52.50 | $63.00 | $73.50 | $122.50 | $96.80 | $61.40 | $71.90
4 | $51.50 | $57.50 | $70.00 | $81.25 | $137.25 | $112.70 | $68.60 | $80.35
5 | $55.00 | $62.50 | $77.00 | $89.00 | $152.00 | $128.60 | $75.80 | $88.80
6 | $58.50 | $67.50 | $84.00 | $96.75 | $166.75 | $144.50 | $83.00 | $97.25
7 | $62.00 | $72.50 | $91.00 | $104.50 | $181.50 | $160.40 | $90.20 | $105.70
8 | $65.50 | $77.50 | $98.00 | $112.25 | $196.25 | $176.30 | $97.40 | $114.15
9 | $69.00 | $82.50 | $105.00 | $120.00 | $211.00 | $192.20 | $104.60 | $122.60
10 | $72.50 | $87.50 | $112.00 | $127.75 | $225.75 | $208.10 | $111.80 | $131.05
11 | $75.35 | $90.65 | $116.30 | $132.65 | $237.00 | $218.10 | $116.05 | $137.45
12 | $78.20 | $93.80 | $120.60 | $137.55 | $248.25 | $228.10 | $120.30 | $143.85
13 | $81.05 | $96.95 | $124.90 | $142.45 | $259.50 | $238.10 | $124.55 | $150.25
14 | $83.90 | $100.10 | $129.20 | $147.35 | $270.75 | $248.10 | $128.80 | $156.65
15 | $86.75 | $103.25 | $133.50 | $152.25 | $282.00 | $258.10 | $133.05 | $163.05
16 | $89.60 | $106.40 | $137.80 | $157.15 | $293.25 | $268.10 | $137.30 | $169.45
17 | $92.45 | $109.55 | $142.10 | $162.05 | $304.50 | $278.10 | $141.55 | $175.85
18 | $95.30 | $112.70 | $146.40 | $166.95 | $315.75 | $288.10 | $145.80 | $182.25
19 | $98.15 | $115.85 | $150.70 | $171.85 | $327.00 | $298.10 | $150.05 | $188.65
20 | $101.00 | $119.00 | $155.00 | $176.75 | $338.25 | $308.10 | $154.30 | $195.05
21 | $103.85 | $122.15 | $159.30 | $181.65 | $349.50 | $318.10 | $158.55 | $201.45
22 | $106.70 | $125.30 | $163.60 | $186.55 | $360.75 | $328.10 | $162.80 | $207.85
23 | $109.55 | $128.45 | $167.90 | $191.45 | $372.00 | $338.10 | $167.05 | $214.25
24 | $112.40 | $131.60 | $172.20 | $196.35 | $383.25 | $348.10 | $171.30 | $220.65
25 | $115.25 | $134.75 | $176.50 | $201.25 | $394.50 | $358.10 | $175.55 | $227.05
26 | $118.10 | $137.90 | $180.80 | $206.15 | $405.75 | $368.10 | $179.80 | $233.45
27 | $120.95 | $141.05 | $185.10 | $211.05 | $417.00 | $378.10 | $184.05 | $239.85
28 | $123.80 | $144.20 | $189.40 | $215.95 | $428.25 | $388.10 | $188.30 | $246.25
29 | $126.65 | $147.35 | $193.70 | $220.85 | $439.50 | $398.10 | $192.55 | $252.65
30 | $129.50 | $150.50 | $198.00 | $225.75 | $450.75 | $408.10 | $196.80 | $259.05
31 | $132.35 | $153.65 | $202.30 | $230.65 | $462.00 | $418.10 | $201.05 | $265.45
32 | $135.20 | $156.80 | $206.60 | $235.55 | $473.25 | $428.10 | $205.30 | $271.85
33 | $138.05 | $159.95 | $210.90 | $240.45 | $484.50 | $438.10 | $209.55 | $278.25
34 | $140.90 | $163.10 | $215.20 | $245.35 | $495.75 | $448.10 | $213.80 | $284.65
35 | $143.75 | $166.25 | $219.50 | $250.25 | $507.00 | $458.10 | $218.05 | $291.05
36 | $146.60 | $169.40 | $223.80 | $255.15 | $518.25 | $468.10 | $222.30 | $297.45
37 | $149.45 | $172.55 | $228.10 | $260.05 | $529.50 | $478.10 | $226.55 | $303.85
38 | $152.30 | $175.70 | $232.40 | $264.95 | $540.75 | $488.10 | $230.80 | $310.25
39 | $155.15 | $178.85 | $236.70 | $269.85 | $552.00 | $498.10 | $235.05 | $316.65
40 | $158.00 | $182.00 | $241.00 | $274.75 | $563.25 | $508.10 | $239.30 | $323.05
41 | $160.10 | $184.10 | $245.30 | $279.55 | $571.50 | $516.60 | $243.45 | $329.20
42 | $162.20 | $186.20 | $249.60 | $284.35 | $579.75 | $525.10 | $247.60 | $335.35
43 | $164.30 | $188.30 | $253.90 | $289.15 | $588.00 | $533.60 | $251.75 | $341.50
44 | $166.40 | $190.40 | $258.20 | $293.95 | $596.25 | $542.10 | $255.90 | $347.65
45 | $168.50 | $192.50 | $262.50 | $298.75 | $604.50 | $550.60 | $260.05 | $353.80
46 | $170.60 | $194.60 | $266.80 | $303.55 | $612.75 | $559.10 | $264.20 | $359.95
47 | $172.70 | $196.70 | $271.10 | $308.35 | $621.00 | $567.60 | $268.35 | $366.10
48 | $174.80 | $198.80 | $275.40 | $313.15 | $629.25 | $576.10 | $272.50 | $372.25
49 | $176.90 | $200.90 | $279.70 | $317.95 | $637.50 | $584.60 | $276.65 | $378.40
50 | $179.00 | $203.00 | $284.00 | $322.75 | $645.75 | $593.10 | $280.80 | $384.55
51 | $181.10 | $205.10 | $288.30 | $327.55 | $654.00 | $601.60 | $284.95 | $390.70
52 | $183.20 | $207.20 | $292.60 | $332.35 | $662.25 | $610.10 | $289.10 | $396.85
53 | $185.30 | $209.30 | $296.90 | $337.15 | $670.50 | $618.60 | $293.25 | $403.00
54 | $187.40 | $211.40 | $301.20 | $341.95 | $678.75 | $627.10 | $297.40 | $409.15
55 | $189.50 | $213.50 | $305.50 | $346.75 | $687.00 | $635.60 | $301.55 | $415.30
56 | $191.60 | $215.60 | $309.80 | $351.55 | $695.25 | $644.10 | $305.70 | $421.45
57 | $193.70 | $217.70 | $314.10 | $356.35 | $703.50 | $652.60 | $309.85 | $427.60
58 | $195.80 | $219.80 | $318.40 | $361.15 | $711.75 | $661.10 | $314.00 | $433.75
59 | $197.90 | $221.90 | $322.70 | $365.95 | $720.00 | $669.60 | $318.15 | $439.90
60 | $200.00 | $224.00 | $327.00 | $370.75 | $728.25 | $678.10 | $322.30 | $446.05
61 | $202.10 | $226.10 | $331.30 | $375.55 | $736.50 | $686.60 | $326.45 | $452.20
62 | $204.20 | $228.20 | $335.60 | $380.35 | $744.75 | $695.10 | $330.60 | $458.35
63 | $206.30 | $230.30 | $339.90 | $385.15 | $753.00 | $703.60 | $334.75 | $464.50
64 | $208.40 | $232.40 | $344.20 | $389.95 | $761.25 | $712.10 | $338.90 | $470.65
65 | $210.50 | $234.50 | $348.50 | $394.75 | $769.50 | $720.60 | $343.05 | $476.80
66 | $212.60 | $236.60 | $352.80 | $399.55 | $777.75 | $729.10 | $347.20 | $482.95
67 | $214.70 | $238.70 | $357.10 | $404.35 | $786.00 | $737.60 | $351.35 | $489.10
68 | $216.80 | $240.80 | $361.40 | $409.15 | $794.25 | $746.10 | $355.50 | $495.25
69 | $218.90 | $242.90 | $365.70 | $413.95 | $802.50 | $754.60 | $359.65 | $501.40
70 | $221.00 | $245.00 | $370.00 | $418.75 | $810.75 | $763.10 | $363.80 | $507.55

Express Mail International
Weight Not Over (Pounds) | Rate Group 1 | Rate Group 2 | Rate Group 3 | Rate Group 4 | Rate Group 5 | Rate Group 6 | Rate Group 7 | Rate Group 8 | Rate Group 9 | Rate Group 10
0.5 | $22.00 | $22.00 | $25.00 | $25.00 | $25.00 | $25.00 | $25.00 | $25.00 | $25.00 | $19.75
1 | $23.25 | $25.50 | $28.00 | $27.50 | $30.50 | $27.00 | $32.00 | $32.00 | $30.00 | $22.50
2 | $25.00 | $30.00 | $32.00 | $30.50 | $34.75 | $31.00 | $37.00 | $36.85 | $34.75 | $25.25
3 | $26.75 | $34.50 | $36.00 | $33.50 | $39.00 | $35.00 | $42.00 | $41.70 | $39.50 | $28.75
4 | $28.50 | $39.00 | $40.00 | $36.50 | $43.25 | $39.00 | $47.00 | $46.55 | $44.25 | $32.25
5 | $30.25 | $43.50 | $44.00 | $39.50 | $47.50 | $43.00 | $52.00 | $51.40 | $49.00 | $35.50
6 | $32.00 | $46.10 | $47.85 | $43.00 | $51.25 | $47.00 | $57.00 | $56.40 | $53.75 | $39.00
7 | $33.75 | $48.70 | $51.70 | $46.50 | $55.00 | $51.00 | $62.00 | $61.40 | $58.50 | $42.50
8 | $35.50 | $51.30 | $55.55 | $50.00 | $58.75 | $55.00 | $67.00 | $66.40 | $63.25 | $46.00
9 | $37.25 | $53.90 | $59.40 | $53.50 | $62.50 | $59.00 | $72.00 | $71.40 | $68.00 | $49.50
10 | $39.00 | $56.50 | $63.25 | $57.00 | $66.25 | $63.00 | $77.00 | $76.40 | $72.75 | $52.25
11 | $41.50 | $59.10 | $67.10 | $61.10 | $70.00 | $68.25 | $82.35 | $81.40 | $78.00 | $55.75
12 | $44.00 | $61.70 | $70.95 | $65.20 | $73.75 | $73.50 | $87.70 | $86.40 | $83.25 | $59.25
13 | $46.50 | $64.30 | $74.80 | $69.30 | $77.50 | $78.75 | $93.05 | $91.40 | $88.50 | $62.50
14 | $49.00 | $66.90 | $78.65 | $73.40 | $81.25 | $84.00 | $98.40 | $96.40 | $93.75 | $66.00
15 | $51.50 | $69.50 | $82.50 | $77.50 | $85.00 | $89.25 | $103.75 | $101.40 | $99.00 | $69.25
16 | $54.00 | $72.10 | $86.35 | $81.60 | $88.75 | $94.50 | $109.10 | $106.40 | $104.25 | $72.75
17 | $56.50 | $74.70 | $90.20 | $85.70 | $92.50 | $99.75 | $114.45 | $111.40 | $109.50 | $76.00
18 | $59.00 | $77.30 | $94.05 | $89.80 | $96.25 | $105.00 | $119.80 | $116.40 | $114.75 | $79.50
19 | $61.50 | $79.90 | $97.90 | $93.90 | $100.00 | $110.25 | $125.15 | $121.40 | $120.00 | $82.75
20 | $64.00 | $82.50 | $101.75 | $98.00 | $103.75 | $115.50 | $130.50 | $126.40 | $125.25 | $86.25
21 | $66.50 | $85.10 | $105.60 | $102.10 | $107.50 | $120.75 | $135.85 | $131.40 | $130.50 | $89.75
22 | $69.00 | $87.70 | $109.45 | $106.20 | $111.25 | $126.00 | $141.20 | $136.40 | $135.75 | $93.00
23 | $71.50 | $90.30 | $113.30 | $110.30 | $115.00 | $131.25 | $146.55 | $141.40 | $141.00 | $96.50
24 | $74.00 | $92.90 | $117.15 | $114.40 | $118.75 | $136.50 | $151.90 | $146.40 | $146.25 | $99.75
25 | $76.50 | $95.50 | $121.00 | $118.50 | $122.50 | $141.75 | $157.25 | $151.40 | $151.50 | $103.25
26 | $79.00 | $98.10 | $124.85 | $122.60 | $126.25 | $147.00 | $162.60 | $156.40 | $156.75 | $106.50
27 | $81.50 | $100.70 | $128.70 | $126.70 | $130.00 | $152.25 | $167.95 | $161.40 | $162.00 | $110.00
28 | $84.00 | $103.30 | $132.55 | $130.80 | $133.75 | $157.50 | $173.30 | $166.40 | $167.25 | $113.25
29 | $86.50 | $105.90 | $136.40 | $134.90 | $137.50 | $162.75 | $178.65 | $171.40 | $172.50 | $116.75
30 | $89.00 | $108.50 | $140.25 | $139.00 | $141.25 | $168.00 | $184.00 | $176.40 | $177.75 | $120.25
31 | $91.50 | $111.10 | $144.10 | $143.10 | $145.00 | $173.25 | $189.35 | $181.40 | $183.00 | $123.50
32 | $94.00 | $113.70 | $147.95 | $147.20 | $148.75 | $178.50 | $194.70 | $186.40 | $188.25 | $127.00
33 | $96.50 | $116.30 | $151.80 | $151.30 | $152.50 | $183.75 | $200.05 | $191.40 | $193.50 | $130.25
34 | $99.00 | $118.90 | $155.65 | $155.40 | $156.25 | $189.00 | $205.40 | $196.40 | $198.75 | $133.75
35 | $101.50 | $121.50 | $159.50 | $159.50 | $160.00 | $194.25 | $210.75 | $201.40 | $204.00 | $137.00
36 | $104.00 | $124.10 | $163.35 | $163.60 | $163.75 | $199.50 | $216.10 | $206.40 | $209.25 | $140.50
37 | $106.50 | $126.70 | $167.20 | $167.70 | $167.50 | $204.75 | $221.45 | $211.40 | $214.50 | $144.00
38 | $109.00 | $129.30 | $171.05 | $171.80 | $171.25 | $210.00 | $226.80 | $216.40 | $219.75 | $147.25
39 | $111.50 | $131.90 | $174.90 | $175.90 | $175.00 | $215.25 | $232.15 | $221.40 | $225.00 | $150.75
40 | $114.00 | $134.50 | $178.75 | $180.00 | $178.75 | $220.50 | $237.50 | $226.40 | $230.25 | $154.00
41 | $116.50 | $137.10 | $182.60 | $184.10 | $182.50 | $225.75 | $242.85 | $231.40 | $235.50 | $157.50
42 | $119.00 | $139.70 | $186.45 | $188.20 | $186.25 | $231.00 | $248.20 | $236.40 | $240.75 | $160.75
43 | $121.50 | $142.30 | $190.30 | $192.30 | $190.00 | $236.25 | $253.55 | $241.40 | $246.00 | $164.25
44 | $124.00 | $144.90 | $194.15 | $196.40 | $193.75 | $241.50 | $258.90 | $246.40 | $251.25 | $167.50
45 | $126.50 | $147.50 | $198.00 | $200.50 | $197.50 | $246.75 | $264.25 | $251.40 | $256.50 | $171.00
46 | $129.00 | $150.10 | $201.85 | $204.60 | $201.25 | $252.00 | $269.60 | $256.40 | $261.75 | $174.50
47 | $131.50 | $152.70 | $205.70 | $208.70 | $205.00 | $257.25 | $274.95 | $261.40 | $267.00 | $177.75
48 | $134.00 | $155.30 | $209.55 | $212.80 | $208.75 | $262.50 | $280.30 | $266.40 | $272.25 | $181.25
49 | $136.50 | $157.90 | $213.40 | $216.90 | $212.50 | $267.75 | $285.65 | $271.40 | $277.50 | $184.50
50 | $139.00 | $160.50 | $217.25 | $221.00 | $216.25 | $273.00 | $291.00 | $276.40 | $282.75 | $188.00
51 | $141.50 | $163.10 | $221.10 | $225.10 | $220.00 | $278.25 | $296.35 | $281.40 | $288.00 | $191.25
52 | $144.00 | $165.70 | $224.95 | $229.20 | $223.75 | $283.50 | $301.70 | $286.40 | $293.25 | $194.75
53 | $146.50 | $168.30 | $228.80 | $233.30 | $227.50 | $288.75 | $307.05 | $291.40 | $298.50 | $198.00
54 | $149.00 | $170.90 | $232.65 | $237.40 | $231.25 | $294.00 | $312.40 | $296.40 | $303.75 | $201.50
55 | $151.50 | $173.50 | $236.50 | $241.50 | $235.00 | $299.25 | $317.75 | $301.40 | $309.00 | $205.00
56 | $154.00 | $176.10 | $240.35 | $245.60 | $238.75 | $304.50 | $323.10 | $306.40 | $314.25 | $208.25
57 | $156.50 | $178.70 | $244.20 | $249.70 | $242.50 | $309.75 | $328.45 | $311.40 | $319.50 | $211.75
58 | $159.00 | $181.30 | $248.05 | $253.80 | $246.25 | $315.00 | $333.80 | $316.40 | $324.75 | $215.00
59 | $161.50 | $183.90 | $251.90 | $257.90 | $250.00 | $320.25 | $339.15 | $321.40 | $330.00 | $218.50
60 | $164.00 | $186.50 | $255.75 | $262.00 | $253.75 | $325.50 | $344.50 | $326.40 | $335.25 | $221.75
61 | $166.50 | $189.10 | $259.60 | $266.10 | $257.50 | $330.75 | $349.85 | $331.40 | $340.50 | $225.25
62 | $169.00 | $191.70 | $263.45 | $270.20 | $261.25 | $336.00 | $355.20 | $336.40 | $345.75 | $228.75
63 | $171.50 | $194.30 | $267.30 | $274.30 | $265.00 | $341.25 | $360.55 | $341.40 | $351.00 | $232.00
64 | $174.00 | $196.90 | $271.15 | $278.40 | $268.75 | $346.50 | $365.90 | $346.40 | $356.25 | $235.50
65 | $176.50 | $199.50 | $275.00 | $282.50 | $272.50 | $351.75 | $371.25 | $351.40 | $361.50 | $238.75
66 | $179.00 | $202.10 | $278.85 | $286.60 | $276.25 | $357.00 | $376.60 | $356.40 | $366.75 | $242.25
67 | — | — | — | $290.70 | — | $362.25 | $381.95 | $361.40 | $372.00 | $245.50
68 | — | — | — | $294.80 | — | $367.50 | $387.30 | $366.40 | $377.25 | $249.00
69 | — | — | — | $298.90 | — | $372.75 | $392.65 | $371.40 | $382.50 | $252.25
70 | — | — | — | $303.00 | — | $378.00 | $398.00 | $376.40 | $387.75 | $255.75

Express Mail International—Flat-Rate Envelope
Destination country | Envelope
Canada & Mexico | $22.00
All other countries | $25.00

Priority Mail International
Weight not over (pounds) | Rate group 1 | Rate group 2 | Rate group 3 | Rate group 4 | Rate group 5 | Rate group 6 | Rate group 7 | Rate group 8 | Rate group 9 | Rate group 10
1 | $16.00 | $16.50 | $21.00 | $18.50 | $20.00 | $18.50 | $21.00 | $20.00 | $18.00 | $10.20
2 | $17.30 | $19.75 | $25.25 | $21.75 | $24.00 | $22.70 | $25.50 | $24.00 | $21.60 | $12.10
3 | $18.60 | $23.00 | $29.50 | $25.00 | $28.00 | $26.90 | $30.00 | $28.00 | $25.20 | $14.30
4 | $19.90 | $26.25 | $33.75 | $28.25 | $32.00 | $31.10 | $34.50 | $32.00 | $28.80 | $16.60
5 | $21.20 | $29.50 | $38.00 | $31.50 | $36.00 | $35.30 | $39.00 | $36.00 | $32.40 | $18.70
6 | $22.50 | $31.80 | $41.60 | $34.65 | $39.30 | $39.90 | $43.50 | $40.35 | $35.90 | $20.90
7 | $23.80 | $34.10 | $45.20 | $37.80 | $42.60 | $44.50 | $48.00 | $44.70 | $39.40 | $23.10
8 | $25.10 | $36.40 | $48.80 | $40.95 | $45.90 | $49.10 | $52.50 | $49.05 | $42.90 | $25.40
9 | $26.40 | $38.70 | $52.40 | $44.10 | $49.20 | $53.70 | $57.00 | $53.40 | $46.40 | $27.70
10 | $27.70 | $41.00 | $56.00 | $47.25 | $52.50 | $58.30 | $61.50 | $57.75 | $49.90 | $29.90
11 | $29.10 | $43.30 | $59.60 | $50.85 | $55.80 | $62.90 | $65.85 | $62.10 | $53.40 | $32.20
12 | $30.50 | $45.60 | $63.20 | $54.45 | $59.10 | $67.50 | $70.20 | $66.45 | $56.90 | $34.40
13 | $31.90 | $47.90 | $66.80 | $58.05 | $62.40 | $72.10 | $74.55 | $70.80 | $60.40 | $36.60
14 | $33.30 | $50.20 | $70.40 | $61.65 | $65.70 | $76.70 | $78.90 | $75.15 | $63.90 | $38.70
15 | $34.70 | $52.50 | $74.00 | $65.25 | $69.00 | $81.30 | $83.25 | $79.50 | $67.40 | $40.90
16 | $36.10 | $54.80 | $77.60 | $68.85 | $72.30 | $85.90 | $87.60 | $83.85 | $70.90 | $42.90
17 | $37.50 | $57.10 | $81.20 | $72.45 | $75.60 | $90.50 | $91.95 | $88.20 | $74.40 | $44.85
18 | $38.90 | $59.40 | $84.80 | $76.05 | $78.90 | $95.10 | $96.30 | $92.55 | $77.90 | $46.85
19 | $40.30 | $61.70 | $88.40 | $79.65 | $82.20 | $99.70 | $100.65 | $96.90 | $81.40 | $48.85
20 | $41.70 | $64.00 | $92.00 | $83.25 | $85.50 | $104.30 | $105.00 | $101.25 | $84.90 | $50.80
21 | $43.10 | $66.30 | $95.60 | $86.85 | $88.80 | $108.90 | $109.35 | $105.60 | $88.40 | $52.80
22 | $44.50 | $68.60 | $99.20 | $90.45 | $92.10 | $113.50 | $113.70 | $109.95 | $91.90 | $54.80
23 | $45.90 | $70.90 | $102.80 | $94.05 | $95.40 | $118.10 | $118.05 | $114.30 | $95.40 | $56.75
24 | $47.30 | $73.20 | $106.40 | $97.65 | $98.70 | $122.70 | $122.40 | $118.65 | $98.90 | $58.75
25 | $48.70 | $75.50 | $110.00 | $101.25 | $102.00 | $127.30 | $126.75 | $123.00 | $102.40 | $60.70
26 | $50.10 | $77.80 | $113.60 | $104.85 | $105.30 | $131.90 | $131.10 | $127.35 | $105.90 | $62.65
27 | $51.50 | $80.10 | $117.20 | $108.45 | $108.60 | $136.50 | $135.45 | $131.70 | $109.40 | $64.65
28 | $52.90 | $82.40 | $120.80 | $112.05 | $111.90 | $141.10 | $139.80 | $136.05 | $112.90 | $66.60
29 | $54.30 | $84.70 | $124.40 | $115.65 | $115.20 | $145.70 | $144.15 | $140.40 | $116.40 | $68.55
30 | $55.70 | $87.00 | $128.00 | $119.25 | $118.50 | $150.30 | $148.50 | $144.75 | $119.90 | $70.55
31 | $57.10 | $89.30 | $131.60 | $122.85 | $121.80 | $154.90 | $152.85 | $149.10 | $123.40 | $72.50
32 | $58.50 | $91.60 | $135.20 | $126.45 | $125.10 | $159.50 | $157.20 | $153.45 | $126.90 | $74.45
33 | $59.90 | $93.90 | $138.80 | $130.05 | $128.40 | $164.10 | $161.55 | $157.80 | $130.40 | $76.40
34 | $61.30 | $96.20 | $142.40 | $133.65 | $131.70 | $168.70 | $165.90 | $162.15 | $133.90 | $78.35
35 | $62.70 | $98.50 | $146.00 | $137.25 | $135.00 | $173.30 | $170.25 | $166.50 | $137.40 | $80.30
36 | $64.10 | $100.80 | $149.60 | $140.85 | $138.30 | $177.90 | $174.60 | $170.85 | $140.90 | $82.40
37 | $65.50 | $103.10 | $153.20 | $144.45 | $141.60 | $182.50 | $178.95 | $175.20 | $144.40 | $84.50
38 | $66.90 | $105.40 | $156.80 | $148.05 | $144.90 | $187.10 | $183.30 | $179.55 | $147.90 | $86.65
39 | $68.30 | $107.70 | $160.40 | $151.65 | $148.20 | $191.70 | $187.65 | $183.90 | $151.40 | $88.70
40 | $69.70 | $110.00 | $164.00 | $155.25 | $151.50 | $196.30 | $192.00 | $188.25 | $154.90 | $90.80
41 | $71.10 | $112.30 | $167.60 | $158.85 | $154.80 | $200.90 | $196.35 | $192.60 | $158.40 | $92.85
42 | $72.50 | $114.60 | $171.20 | $162.45 | $158.10 | $205.50 | $200.70 | $196.95 | $161.90 | $94.95
43 | $73.90 | $116.90 | $174.80 | $166.05 | $161.40 | $210.10 | $205.05 | $201.30 | $165.40 | $97.05
44 | $75.30 | $119.20 | $178.40 | $169.65 | $164.70 | $214.70 | $209.40 | $205.65 | $168.90 | $99.10
45 | $76.70 | — | $182.00 | $173.25 | $168.00 | $219.30 | $213.75 | $210.00 | $172.40 | $101.20
46 | $78.10 | — | $185.60 | $176.85 | $171.30 | $223.90 | $218.10 | $214.35 | $175.90 | $103.25
47 | $79.50 | — | $189.20 | $180.45 | $174.60 | $228.50 | $222.45 | $218.70 | $179.40 | $105.35
48 | $80.90 | — | $192.80 | $184.05 | $177.90 | $233.10 | $226.80 | $223.05 | $182.90 | $107.45
49 | $82.30 | — | $196.40 | $187.65 | $181.20 | $237.70 | $231.15 | $227.40 | $186.40 | $109.50
50 | $83.70 | — | $200.00 | $191.25 | $184.50 | $242.30 | $235.50 | $231.75 | $189.90 | $111.55
51 | $85.10 | — | $203.60 | $194.85 | $187.80 | $246.90 | $239.85 | $236.10 | $193.40 | $113.65
52 | $86.50 | — | $207.20 | $198.45 | $191.10 | $251.50 | $244.20 | $240.45 | $196.90 | $115.70
53 | $87.90 | — | $210.80 | $202.05 | $194.40 | $256.10 | $248.55 | $244.80 | $200.40 | $117.85
54 | $89.30 | — | $214.40 | $205.65 | $197.70 | $260.70 | $252.90 | $249.15 | $203.90 | $119.90
55 | $90.70 | — | $218.00 | $209.25 | $201.00 | $265.30 | $257.25 | $253.50 | $207.40 | $122.00
56 | $92.10 | — | $221.60 | $212.85 | $204.30 | $269.90 | $261.60 | $257.85 | $210.90 | $124.05
57 | $93.50 | — | $225.20 | $216.45 | $207.60 | $274.50 | $265.95 | $262.20 | $214.40 | $126.15
58 | $94.90 | — | $228.80 | $220.05 | $210.90 | $279.10 | $270.30 | $266.55 | $217.90 | $128.20
59 | $96.30 | — | $232.40 | $223.65 | $214.20 | $283.70 | $274.65 | $270.90 | $221.40 | $130.30
60 | $97.70 | — | $236.00 | $227.25 | $217.50 | $288.30 | $279.00 | $275.25 | $224.90 | $132.35
61 | $99.10 | — | $239.60 | $230.85 | $220.80 | $292.90 | $283.35 | $279.60 | $228.40 | $134.45
62 | $100.50 | — | $243.20 | $234.45 | $224.10 | $297.50 | $287.70 | $283.95 | $231.90 | $136.50
63 | $101.90 | — | $246.80 | $238.05 | $227.40 | $302.10 | $292.05 | $288.30 | $235.40 | $138.65
64 | $103.30 | — | $250.40 | $241.65 | $230.70 | $306.70 | $296.40 | $292.65 | $238.90 | $140.70
65 | $104.70 | — | $254.00 | $245.25 | $234.00 | $311.30 | $300.75 | $297.00 | $242.40 | $142.80
66 | $106.10 | — | $257.60 | $248.85 | $237.30 | $315.90 | $305.10 | $301.35 | $245.90 | $144.85
67 | — | — | — | $252.45 | $240.60 | $320.50 | $309.45 | $305.70 | $249.40 | $146.95
68 | — | — | — | $256.05 | $243.90 | $325.10 | $313.80 | $310.05 | $252.90 | $149.00
69 | — | — | — | $259.65 | $247.20 | $329.70 | $318.15 | $314.40 | $256.40 | $151.10
70 | — | — | — | $263.25 | $250.50 | $334.30 | $322.50 | $318.75 | $259.90 | $153.20

Priority Mail International—Flat-rate Envelope ¹
Destination country | Envelope
Canada & Mexico | $9.00
All other countries | $11.00
¹ First-Class Mail International only.

Priority Mail International—Flat-rate Box
Destination country | Box
Canada & Mexico | $23.00
All other countries | $37.00

Online Discounts
Service | Global Express Guaranteed | Express Mail International | Priority Mail International
Discount | 10% | 8% | 5%

First-Class Mail International
Weight Not Over (oz.) | RATE GROUPS: 1 | RATE GROUPS: 2 | RATE GROUPS: 3 | RATE GROUPS: 4 | RATE GROUPS: 5 | RATE GROUPS: 6
1.0 | $0.69 | $0.69 | $0.90 | $0.90 | $0.90 | $0.61
2.0 | $1.00 | $1.12 | $1.80 | $1.80 | $1.80 | $1.09
3.0 | $1.31 | $1.55 | $2.70 | $2.70 | $2.70 | $1.57
4.0 | $1.62 | $1.98 | $3.60 | $3.60 | $3.60 | $2.05
5.0 | $1.93 | $2.41 | $4.50 | $4.50 | $4.50 | $2.53
6.0 | $2.24 | $2.84 | $5.40 | $5.40 | $5.40 | $3.01
7.0 | $2.55 | $3.27 | $6.30 | $6.30 | $6.30 | $3.49
8.0 | $2.86 | $3.70 | $7.20 | $7.20 | $7.20 | $3.97
12.0 | $3.76 | $5.10 | $8.80 | $8.65 | $8.65 | $5.15
16.0 | $4.66 | $6.50 | $10.40 | $10.10 | $10.10 | $6.21
20.0 | $5.56 | $7.90 | $12.00 | $11.55 | $11.55 | $7.27
24.0 | $6.46 | $9.30 | $13.60 | $13.00 | $13.00 | $8.33
28.0 | $7.36 | $10.70 | $15.20 | $14.45 | $14.45 | $9.39
32.0 | $8.26 | $12.10 | $16.80 | $15.90 | $15.90 | $10.45
36.0 | $9.16 | $13.50 | $18.40 | $17.35 | $17.35 | $11.51
40.0 | $10.06 | $14.90 | $20.00 | $18.80 | $18.80 | $12.57
44.0 | $10.96 | $16.30 | $21.60 | $20.25 | $20.25 | $13.63
48.0 | $11.86 | $17.70 | $23.20 | $21.70 | $21.70 | $14.69
52.0 | $12.76 | $19.10 | $24.80 | $23.15 | $23.15 | $15.75
56.0 | $13.66 | $20.50 | $26.40 | $24.60 | $24.60 | $16.81
60.0 | $14.56 | $21.90 | $28.00 | $26.05 | $26.05 | $17.87
64.0 | $15.46 | $23.30 | $29.60 | $27.50 | $27.50 | $18.93

Postal Cards and Postcards
Destination Country | Postage Rate
Canada and Mexico | $0.69
Marshall Islands and Micronesia | $0.52
All Other Countries | $0.90

IPA and IPA M-bags
RATE GROUPS | Per Piece | Full Service Per Lb.: Regular | Full Service Per Lb.: M-Bag ¹ | ISC Drop Shipment Per Lb.: Regular | ISC Drop Shipment Per Lb.: M-Bag ¹ | M-Bag 5-10 Lb. Per Lb. Rate
RG 1 (Canada) | $0.33 | $4.55 | $2.10 | $3.55 | $2.00 | $0.45
RG 2 (Mexico) | $0.15 | $6.10 | $2.70 | $5.10 | $2.60 | $0.60
RG 3 | $0.32 | $7.50 | $3.60 | $6.50 | $3.35 | $1.00
RG 4 | $0.32 | $7.70 | $5.15 | $6.70 | $5.00 | $1.75
RG 5 | $0.15 | $6.50 | $4.40 | $5.50 | $4.15 | $1.15
RG 6 | $0.15 | $5.80 | $4.20 | $4.80 | $3.95 | $0.80
RG 7 | $0.15 | $7.50 | $4.95 | $6.50 | $4.70 | $1.15
RG 8 | $0.12 | $8.00 | $4.85 | $7.00 | $4.60 | $1.35
RG 9 (Australia) | $0.27 | $8.25 | $6.25 | $7.25 | $6.00 | $1.85
Worldwide | $0.25 | $8.50 | — | $7.50 | — | —
¹ ≥11 pound M-Bag rate.

ISAL and ISAL M-bags
INTERNATIONAL SURFACE AIRLIFT
RATE GROUPS | Per Piece Rate | Full Service Per Lb.: Regular | Full Service Per Lb.: M-Bag * | Direct Shipment Per Lb.: Regular | Direct Shipment Per Lb.: M-Bag * | ISC Drop Shipment Per Lb.: Regular | ISC Drop Shipment Per Lb.: M-Bag * | M-Bag 5-10 Lb. Per Lb. Rate
RG 1 (Canada) | $0.32 | $3.20 | $1.60 | $2.70 | $1.60 | $2.20 | $1.50 | $0.20
RG 2 (Mexico) | $0.15 | $5.15 | $1.70 | $4.65 | $1.70 | $4.15 | $1.60 | $0.23
RG 3 | $0.30 | $4.00 | $2.00 | $3.50 | $2.00 | $3.00 | $1.75 | $0.33
RG 4 | $0.32 | $4.35 | $2.80 | $3.85 | $2.80 | $3.35 | $2.65 | $0.43
RG 5 | $0.15 | $5.45 | $2.35 | $4.95 | $2.35 | $4.45 | $2.10 | $0.41
RG 6 | $0.15 | $5.55 | $2.35 | $5.05 | $2.35 | $4.55 | $2.10 | $0.36
RG 7 | $0.15 | $5.45 | $2.60 | $4.95 | $2.60 | $4.45 | $2.35 | $0.40
RG 8 | $0.12 | $6.60 | $3.25 | $6.10 | $3.25 | $5.60 | $3.00 | $0.60
RG 9 (Australia) | $0.22 | $4.45 | $2.75 | $3.95 | $2.75 | $3.45 | $2.75 | $0.43
≥11 pound M-Bag rate.

Extra Services Fees
Description | Fee ¹
International Postal Money Orders | $3.85
International Reply Coupons | 2.00
International Business Reply Card | .90
International Business Reply Envelope (up to 2 oz) | 1.40
Customs Clearance and Delivery Fee | 5.35
¹ Fees not tied to domestic fees.

Insurance
Insurance: Priority Mail International Insurance Not Over | Insurance: Canada | Insurance: All other countries
$50 | 1.65 | $2.40
$100 | 3.00 | 3.15
$200 | 3.75 | 3.90
$300 | 4.50 | 4.65
$400 | 5.25 | 5.40
$500 | 6.00 | 6.15
$600 | 46.75 | 6.90
$675 | 7.50 | ( ¹)
$700 | ( ¹) | 7.65
Add'l $100 | ( ¹) | 0.75
¹ Not applicable.

3. Revise the following section of Mailing Standards of the United States Postal Service, International Mail Manual (IMM), as follows:

* * * * *

1 International Mail Services

110 General Information

* * * * *

115 Official Correspondence

115 Communicating With Headquarters

* * * * *

115.13 Transportation and Distribution

[Revise the first sentence of 115.13 as follows:]

Correspondence concerning the transportation of international civil and military mail, including the following, should be addressed to:

* * * * *

[Revise item e as follows:]

e. Internal conveyance, terminal, and transit charges.

* * * * *

120 Preparation for Mailing

* * * * *

123 Customs Forms

123.1 General

* * * * *

[Revise the Note for 123.1 as follows:]

Note: The current edition of PS Forms 2976 is January 2004; the current edition of PS Form 2976-A is January 2006; the current edition of PS Form 2976-E is September 2006. Except as provided in 123.3, mailers must present at the time of mailing a fully completed Sender's Declaration (the Post Office copy of PS Form 2976, which specifies both the sender's name and address and the addressee's name and address.

* * * * *

123.6 Required Usage

123.61 Conditions

* * * * *

Exhibited 123.61

Customs Declaration Form Usage

[Revise Exhibit 123.61 as follows:]

* * * * *

Mail category | Declared value | Required form | Comment
Global Express Guaranteed | All values | Mailing label (item 11FGG1) |
Express Mail International | All values | 2976 or 2976-A unless otherwise specified | See Note 3 at the bottom of this exhibit and the Individual Country Listings.
First-Class Mail International items that: | N/A | None | A known mailer, as defined in123.62, may be exempt from affixing customs forms to nondutiable mailpieces that weigh 16 ounces or more.
Weigh less than 16 ounces and do not have potentially dutiable contents |  |  |
Weigh 16 ounces or more, do not have potentially dutiable contents, and are entered by a known mailer |  |  |
First-Class Mail International items and Priority Mail International envelopes that:
Weigh less than 16 ounces and do not have potentially dutiable contents | Under $400 | 2976* 2976-A* |
Weigh 16 ounces or more, regardless of their contents | $400 or more regardless of their content | 2976-A* |
Priority Mail International envelopes that: | 2976 | 2976 | Do not use PS Form 2976-A on Flat Rate envelopes.
Weigh less than 16 ounces and do not have potentially dutiable contents |  |  |
Weigh 16 ounces or more, do not have potentially dutiable contents, and are entered by a known mailer |  |  |
Priority Mail International parcels and flat-rate Box items that: | Regardless of value | 2976-A with 2976-E | Do not use PS Form 2976 (green label) on Priority Mail International flat-rate boxes.
Weigh less than 16 ounces and do not have potentially dutiable contents. |  |  |
Weigh 16 ounces or more, do not have potentially dutiable contents, and are entered by a known mailer. |  |  |
Free matter for the blind | Under $400 | 2976 * |
| $400 or more | 2976-A* with 2976-E* |
M-bag | Under $400 | 2976 * |
(Note: An M-bag requires a customs form when it contains potentially dutiable printed matter, admissible merchandise items as defined in 261.22 or some combination thereof.) | $400 or more | 2976-A* |
*Placement of forms: Use PS Form 2976 (green label) for First-Class Mail International items under $400 in value and affix it to the outside of the package. If the value of the contents is $400 or more, affix the upper portion of PS Form 2976 (green label) (cut on dotted line and discard the lower portion) to the outside of the package, complete a separate PS Form 2976-A, and enclose the form set inside the package.

Notes: [Revise notes 1 and 3 as follows:]

1. See 233.3 for the customs form requirements that specifically pertain to Priority Mail International items.

* * * * *

3. Express Mail International shipments that contain nondutiable correspondence, documents, or commercial papers are subject to the following customs form requirements:

a. When an Express Mail International shipment weighs less than 16 ounces, the determination as to whether or not to affix PS Form 2976 depends on the conditions of the destination country. Some countries require that a customs form be affixed to Express Mail International shipments regardless of the weight or contents. Other countries require that a “BUSINESS PAPERS” endorsement be applied to the package. See the Individual Country Listings for each country's specification.

b. When the Express Mail International shipment weighs 16 ounces or more, PS Form 2976 or PS Form 2976-A is required.

* * * * *

123.72 PS Form 2976-A, Customs Declaration and Dispatch Note—CP 72

123.721 Sender's Preparation of PS Form 2976-A

* * * * *

o. Affix PS Form 2976-A according to the class of mail, as follows:

[Revise item o (1) as follows:]

(1) For Priority Mail International, first allow the Postal Service employee to complete PS Form 2976-A as described in 123.722 and then place the form set inside PS Form 2976-E (plastic envelope) and affix it to the outside of the package. Do not use PS Form 2976-A for the Priority Mail International flat-rate envelope. Use PS Form 2976.

[Revise item o (2) as follows]

(2) For a First-Class Mail International item valued at $400 or more, or if you do not want to list the contents on the outside wrapper of a First-Class Mail International item, affix the upper portion of PS Form 2976 (green label) (cut on dotted line and discard the lower portion) to the address side of the package, complete PS Form 2976-A, and enclose the form set inside the package.

* * * * *

123.722 Postal Service Employee's Acceptance of PS Form 2976-A

* * * * *

[Delete item e and renumber current items f and g as items e and f.]

* * * * *

130 Mailability

* * * * *

134 Valuable Articles

134.1 List of Articles

[Revise 134.1 as follows:]

The following valuable articles may be sent only by registered First-Class Mail International, or by insured Priority Mail International shipments and are not mailable in Express Mail International or ordinary Priority Mail International shipments (see 221.2 and 237):

* * * * *

135 Mailable Dangerous Goods

135.1 Biological Substances

135.11 General Conditions

[Revise 135.11 as follows:]

Infectious substances are acceptable in the international mail subject to the provisions of DMM 601 and under the additional conditions specified in subsections below.

* * * * *

135.2 Authorization

* * * * *

135.22 Requests for Authorization

[Revise the first sentence of 135.22 to as follows:]

Qualifying institutions wishing to mail packages containing biological substances must submit a written request on their organizational letterhead to the following address:

* * * * *

135.4 Marking

135.41 Infectious Biological Substances

[Revise the first sentence of 135.41 as follows:]

Items that contain infectious biological substances should be identified by a black and white diamond-shaped label with the division number 6.2 in the bottom, in addition to the Etiologic Agents/Biohazard Material label. * * *

* * * * *

135.42 Noninfectious Biological Substances

[Revise the first sentence of 135.42 as follows:]

Items that contain noninfectious biological substances must be identified by a violet-colored label bearing the prescribed symbol and French wording for perishable biological materials: “MATIERES BIOLOGIQUES PERISSABLES.”

* * * * *

135.44 Shipper's Declaration

[Revise 135.42 as follows:]

First-Class Mail International items that contain perishable biological substances must be given careful yet expeditious handling from receipt through dispatch.

135.5 Handling and Dispatch

135.51 Biological Substances

[Revise 135.51 as follows:]

Items that contain perishable biological substances must be given careful yet expeditious handling from receipt through dispatch.

* * * * *

135.6 Radioactive Materials

* * * * *

[Revise item a as follows:]

a. Shipments may be sent only by registered First-Class Mail International.

* * * * *

139 Perishable Matter

139.1 Animals

* * * * *

c. Parasites and predators of injurious insects, if the following conditions are met:

* * * * *

[Revise item c(4) as follows:]

(4) They are sent by First-Class Mail International in letter packages or small packets.

* * * * *

139.3 Eggs

139.31 Restrictions

[Revise 139.31 as follows:]

Eggs may be sent only by Priority Mail International. * * *

* * * * *

140 International Mail Categories

141 Definitions

141.1 General

[Revise 141.1 as follows:]

There are four principal categories of international mail that are primarily differentiated from one another by speed of service. They are Global Express Guaranteed® (GXG)®, Express Mail International service, First-Class Mail International service, and Priority Mail International.

* * * * *

[Revise the title and text of 141.3 as follows:]

141.3 Express Mail International

The next level of service, in terms of speed and value-added features, is Express Mail International. Express Mail International is an expedited mail service that can be used to send documents and merchandise to most of the country locations that are individually listed in this publication. Express Mail International insurance coverage against loss, damage, or rifling, up to a maximum of $100, is provided at no additional charge. Additional merchandise insurance coverage up to $5,000 may be purchased at the sender's option. However, document reconstruction insurance coverage is limited to a maximum of $100 per shipment. Return receipt service is available upon request, at no additional charge, for Express Mail International shipments that are sent to a limited number of countries. See 221.4. Country-specific maximum weight limits range from 22 pounds to 70 pounds. See the Individual Country Listings. Although Express Mail International shipments are supposed to receive the most expeditious handling available in the destination country, they are not subject to a postage refund guarantee if a delivery delay occurs. Express Mail International with Guarantee service—which offers a date-certain, money-back guarantee—is available to select destinations; see IMM 220 and the Individual Country Listings to determine the availability of such service.

[Revise the title and text of 141.4 as follows:]

141.4 First-Class Mail International

First-Class Mail International is a service that provides customers with a reliable and economical means of sending correspondence, documents, and lightweight merchandise to foreign destinations that are listed in 231.4. First-Class Mail International items must not exceed 4 pounds and they are subject to the provisions of the Universal Postal Union letter-post Convention. First-Class Mail International items may contain any mailable matter that is not prohibited by the destination country. At the sender's option, extra services, such as registry and return receipt may be added on a country-specific basis.

[Revise 141.5 as follows:]

141.5 Priority Mail International

Priority Mail International is governed by the parcels provisions of the UPU Convention and the Parcels Regulations. That classification is primarily designed to accommodate larger and heavier shipments, whose size and/or weight transcend the established limitations for First-Class Mail International. It also affords senders the opportunity to obtain optional mailing services, such as insurance coverage and return receipt, which would otherwise be unavailable.

[Delete 141.6.]

* * * * *

143 Official Mail

* * * * *

143.4 General Secretariat of the Organization of American States (OAS)

[Revise items a and b as follows:]

a. Unregistered First-Class Mail International items bearing the return address of the OAS General Secretariat and weighing not more than 4 pounds are accepted without postage when addressed to the OAS member countries listed in 143.4c.

b. Airmail service for items other than First-Class Mail International with extra services may not be provided for OAS General Secretariat official mail without the prepayment of postage or the fee for the extra service requested.

* * * * *

143.5 Pan American Sanitary Bureau Mail

[Revise items a and b as follows:]

a. Unregistered First-Class Mail International items bearing the return address of the bureau and weighing not more than 4 pounds, are accepted without postage affixed when addressed to an OAS member country listed in 143.4c or to Cuba.

b. Items with the bureau return address that are sent other than First-Class Mail International or that request extra services must prepay all postage and fees.

150 Postage

* * * * *

152 Payment Methods

* * * * *

152.2 Stamps

* * * * *

[Delete item c, and re-letter current item d as new item c.]

* * * * *

152.3 Permit Imprint

152.31 Conditions of Use

[Revise 152.31 as follows:]

Postage may be paid by permit imprint, subject to the general conditions stated in DMM 124, 604, and 705. Postage charges are computed on PS Form 3700. This postage payment method may be used for postage and extra service fees for First-Class Mail International and Priority Mail International.

* * * * *

2 Conditions for Mailing

210 Global Express Guaranteed

211 Description

* * * * *

[Revise the title of 211.2 as follows:]

211.2 Eligibility

* * * * *

[Insert new 211.3 as follows:]

211.3 Global Express Guaranteed Service

Global Express Guaranteed (GXG) service may be used for shipments that contain documents and general correspondence for which no duty is assessed by the customs authority of the destinating country, or for shipments that contain non-documents or other merchandise for which duty may be assessed by the customs authority of the destinating country. Document packages are sealed against inspection by the Postal Service or other U.S. agencies and authorities. Shipments that contain non-documents or other merchandise for which duty may be assessed by the customs authority of the destinating country are not sealed against inspection under 39 U.S.C. 3623(d). These shipments are also subject to inspection by the Postal Service and its designated agents for purposes of aviation (air) security, and to determine that the contents are eligible for mailing and that the contents are adequately declared on the Global Express Guaranteed Air Waybill/Shipping Invoice to permit expedited customs clearance. All shipments (documents and non-documents) may also be subject to inspection in the destinating country for purposes of compliance with the customs requirements of the destinating country. See the listing of destinating countries in 213 for specific availability.

[Delete current 212.2.]

[Insert current 216 title as new 212 title, and revise as follows:]

212 Postage Rates

[Insert current 216.1 (with new rates and rate groups) as new 212.1, and change title to “Global Express Guaranteed Service Rates/Groups”.]

[Delete current 216.2 in its entirety.]

[Insert current 216.3 in its entirety as new 212.2.]

[Revise new 212.252 (current 216.352 item a by changing “$13.25” to “$14.25.”]

[Revise title of new 212.261(current 216.361) to “Global Express Guaranteed with Standard Web Discount” (Discounts apply only to customers who pay for postage online.) New table includes new prices and rate groups.]

[Delete current 216.362 in its entirety.]

[Change title in new 212.262 (current 216.363) to “Global Express Guaranteed With 5-Piece Web Discount (Discounts apply only to customers who pay for postage online.) New table includes new prices and rate groups.]

[Delete current 216.364 in its entirety.]

[Change title in new 212.263 (current 216.365) to “Global Express Guaranteed With 12-Piece Web Discount (Discounts apply only to customers who pay for postage online.) New table includes new prices and rate groups.]

[Delete current 216.366 in its entirety.]

[Change title in new 212.264 (current 216.367) to “Global Express Guaranteed With 20-Piece Web Discount (Discounts apply only to customers who pay for postage online.) New table includes new prices and rate groups.]

[Delete current 216.368 in its entirety.]

[Insert current 216.4 in its entirety as new 212.4.]

* * * * *

213 Service Areas

* * * * *

213.2 Destinating Countries and Rate Groups

* * * * *

[In the table, Delete the “Non-Document Service Rate Group” column and revise the title of the “Document Service Rate Group” column to be “GXG Rate Group”.]

* * * * *

[Revise the introductory text before the last group of countries in 213.2 as follows:]

Only documents (211.3) may be sent to the following countries:

* * * * *

213.3 Pickup Service

[Revise the first sentence of 213.3 as follows:]

On-call and scheduled pickup services are available for an added charge of $14.25 for each pickup stop, regardless of the number of pieces picked up.

214 Service Guarantee

* * * * *

[Revise the title and text of 214.2 as follows:]

214.2 Transit Days for Shipments Containing Non-Documents

Total transit days for Global Express Guaranteed service for non-document items, may be affected by general customs delays, specific customs commodity delays, holidays observed in the destinating country, and other factors beyond the Postal Service's control. See the Terms and Conditions on the Global Express Guaranteed Air Waybill/Shipping Invoice or in Publication 141 for details.

215 Inquiries, Postage Refunds, and Indemnity Claims

* * * * *

215.3 Indemnity Claims

[Delete the titles for 215.31 and 215.32 and revise the text for 215.3 as follows:]

If a shipment is lost or damaged, the sender may file a claim for document reconstruction costs (for document items), or for the declared value of the shipment costs (for non-document items). All claims must be initiated within 30 days of the shipment date by contacting a customer service representative at 800-222-1811. The representative will provide more details on how to file a claim. The original receipt of the Global Express Guaranteed Air Waybill/Shipping Invoice must be included when filing a claim. Consult Publication 141 for limitations and restrictions on indemnity payments for Global Express Guaranteed items. The Global Express Guaranteed customer service office will adjudicate refunds for Global Express Guaranteed. The Global Express Guaranteed customer service office can be contacted at 800-222-1811. Final approval and payment will be made by the Postal Service.

215.4 Extent of Postal Service Liability for Lost or Damaged Contents

[Delete the titles for 215.41 and 215.42 and revise the text for 215.4 as follows:]

For almost all network destinations, liability for a lost or damaged Global Express Guaranteed shipment is limited to the lowest of the following:

a. $100 or the amount of additional optional insurance purchased.

b. The actual amount of the loss or damage.

c. The actual value of the contents.

“Actual value” means the lowest cost of replacing, reconstructing or reconstituting the allowable contents of the shipment (determined at the time and place of acceptance).

215.5 Insurance

[Revise the title and text of 215.51 as follows:]

215.51 Insurance for Global Express Guaranteed

For almost all network destinations, document reconstruction insurance (the reasonable costs incurred in reconstructing duplicates of nonnegotiable documents mailed), and non-document insurance for loss or damage up to $100 per shipment, is included at no additional charge. For almost all network destinations, additional insurance may be purchased for document shipments, as outlined in section 215.52, not to exceed the total cost of reconstruction, $2,499, or a lesser amount as limited by country, content, or value. Coverage, terms, and limitations are subject to change.

[Delete 215.52, and renumber current 215.53 as 215.52.]

[Delete current 216. Renumber current 217 and 218 as 216 and 217.]

216.3 Sizes and Weights

* * * * *

216.3 Dimensional Weight

[Revise 216.3 as follows:]

Postage for Global Express Guaranteed is charged based on the actual weight or the dimensional weight (as calculated in 216.3.1 or 216.3.2), whichever is greater. The equation for determining dimensional weight is as follows:

216.31 Determining Dimensional Weight for a Rectangular Shaped Parcel

Follow these steps to determine the dimensional weight for a rectangular shaped parcel:

a. Determine the length, width, and height in inches. Round off each measurement down to the nearest whole inch.

b. Multiply the length by the width by the height.

c. Divide the result by 166 and round up to the next whole number to determine the dimensional weight in pounds.

216.3.2 Determining Dimensional Weight for a Nonrectangular Shaped Parcel

Follow these steps to determine the dimensional weight for a nonrectangular-shaped parcel:

a. Determine the length, width, and height in inches. Measure the length, width, and height at their extreme dimensions. Round off each measurement down to the nearest whole inch.

b. Multiply the length by the width by the height.

c. Multiply the result by an adjustment factor of 0.785.

d. Divide the result by 166 and round up to the next whole number to determine the dimensional weight in pounds.

* * * * *

[Revise the title and text of 220 as follows:]

220 Express Mail International

[Throughout 220, change “Global Express Mail,” “Global Express Mail (EMS),” and “EMS” to “Express Mail International.”]

221 Description

* * * * *

[Revise the title of 221.2 as follows:]

221.2 Eligibility

* * * * *

222 Postage

222.1 Rates

* * * * *

222.13 Online Rates—General

[Revise 222.13 as follows:]

Discounted rates apply to Express Mail International customers who prepare and pay for Express Mail International shipments online at usps.com or by using an approved USPS PC Postage vendor.

* * * * *

222.132 Online Discounts

[Revise 222.132 as follows:]

Express Mail International published rates will be reduced by 8 percent for all payments at USPS.com or made through an approved USPS PC Postage vendor. The discount applies only to the postage portion of Express Mail International rates. It does not apply to the pickup service charge, additional insurance fees, or shipments made under an International Customized Mail agreement.

* * * * *

[Revise the title of 223 as follows:]

223 Physical Characteristics

* * * * *

[Revise the title of 223.2 as follows:]

223.2 Dimensions

* * * * *

[Revise the title of 224 as follows:]

224 Mail Preparations

* * * * *

[Revise the title of 230 as follows:]

230 Priority Mail International

[Throughout 230 change the term “Global Priority Mail,” “Global Priority Mail (GPM)” and “GPM” to “Priority Mail International.”]

231 Description

231.1 General

[Revise 231.1 as follows:]

With the exception of the flat rate envelope, Priority Mail International is a parcel service.

[Revise the title and text of 231.2 as follows:]

231.2 Eligibility

Personal correspondence may only be mailed in a Priority Mail International flat-rate envelope. Merchandise is permitted. Refer to the “Country Conditions of Mailing” in the Individual Country Listings for individual country prohibitions.

[Delete 231.3 and 231.4, (including Exhibits 231.4a and b).]

[Revise the title of 232 as follows:]

232 Postage Rates and Fees

[Delete the title of 232.1. Renumber current 232.11 as 232.1, and revise the title and text as follows:]

232.1 Flat-Rate Container

There are two flat-rate prices, one for Canada and Mexico and one for all other countries. The price does not depend on the weight of the item. Postage is required for each piece. (See Individual Country Listings for maximum weights.) Customers must use USPS provided and marked containers.

[Delete the exhibit previously numbered 232.11.]

[Renumber current 232.12 as 232.2, and revise the title and text as follows:]

232.2 Parcels

For parcels not using a flat-rate box, prices vary by weight and country rate group. (See Individual Country Listings for maximum weight.)

[Renumber 232.2 as 232.3.]

232.3 Payment of Postage

[Delete the title of new 232.31 (current 232.21) and move text as new 232.3.]

[Renumber new 232.32 (current 232.22) and 232.33 (current 232.23) as new 232.4 and 232.5.]

[Add new 232.6 as follows:]

232.6 Online Rates—General

Discounted rates apply to Priority Mail International customers who prepare and pay for Priority Mail International shipments online at usps.com or by using an approved USPS PC Postage vendor.

[Add new 232.7 as follows:]

232.7 Online Discounts

Priority Mail International published rates will be reduced by 5 percent for all payments at usps.com or made through an approved USPS PC Postage vendor. The discount applies only to the postage portion of Priority Mail International rates. It does not apply to the pickup service charge, additional insurance fees, or shipments made under an International Customized Mail agreement.

[Revise the title of 233 as follows:]

233 Elements on the Face of a Mailpiece

233.1 Addressing

[Revise 233.1 as follows:]

All items must bear the complete delivery address of the addressee and the full name (no abbreviations) of the destination country. The name and address of the sender and addressee should also be recorded on a separate slip enclosed in the parcel. See 122.

[Revise the title and text of 233.2 as follows:]

233.2 Marking

Priority Mail International packages must be marked “AIRMAIL” or “PAR AVION” or bear one of the two prescribed airmail labels (i.e., either PS Label 19-A or PS Label 19-B). The marking or label should be placed below and to the left of the delivery address.

[Revise the title of 233.3 as follows:]

233.3 Customs Form

[Replace introductory text and Exhibit 233.3 with text from current 284.45.]

[Revise the title of 234 as follows:]

234 Physical Characteristics

[Renumber current 234.1 as new 234.2. Renumber current 234.2 as new 234.1.]

[Revise the title of new 234.1 as follows:]

234.1 Weight Limits

[Delete current text and replace with text from 283]

[Revise the title of new 234.2 (current 234.1) as follows:]

234.2 Dimensions

[Delete new 234.22 through 234.24 (current 234.12 through 234.14). Renumber current 283.21 through 283.23 as new 234.22 through 234.24.]

* * * * *

234.24 Exceptional Size Limits

* * * * *

[Revise the text of new item b (current 283.23) by deleting the introductory text in item c and combining the countries listed in item c with those listed in item b.]

[Renumber current 235 as new 235.3.]

[Renumber current 236 as new 235. Revise the title of new 235 as follows:]

235 Mail Preparation

[Delete new 235.1 (current 236.1). Renumber new 235.2 (current 236.2) as new 236. Renumber new 235.3 (current 236.3) as new 232.6.]

[Renumber 284.4 in its entirety as new 235.1.]

235.1 Packaging

* * * * *

[Renumber current 284.3 in its entirety as new 235.2.]

[Add new 236 as follows:]

236 Enter and Deposit

[Renumber text in current 236.2 as 236 and revise as follows:]

Priority Mail International flat-rate containers should be presented to a retail employee at a Post Office counter; handed to a letter carrier; deposited into a street collection box if the mailpiece weighs less than 16 ounces; or pick-up requested by telephone at 800-222-1811 to be picked up at the customer's premises. Priority Mail International that bears a permit imprint must be deposited at a business mail entry unit or other acceptance point that is authorized by the postmaster. Priority Mail International that bears a meter stamp or impression must be deposited at a location that is under the jurisdiction of the licensing Post Office facility, except as permitted under DMM 604.

[Add new 238 as follows:]

238 Extra Services

Insurance is available for Priority Mail International parcels only (see 320).

* * * * *

[Revise the title of 240 as follows:]

240 First-Class Mail International

[Throughout 240 change the term “letter-post” to First-Class Mail International.]

241 Description

[Revise the title and text of 241.1 as follows:]

241.1 General

The First-Class Mail International classification encompasses the classes of international mail that were formerly categorized as airmail letter-post and economy letter-post, post and postal cards, printed matter and small packets that were formerly categorized as LC, (letters and cards), and AO (other articles).

* * * * *

242 Postage

242.1 Rates

[Revise the introductory text of 242.1 as follows:]

The country-specific rate group designations that apply to First-Class Mail International and airmail M-bags (see 260) are as follows:

* * * * *

[Revise the note as follows:]

Note: See the Individual Country Listings for the First-Class Mail International postage rates that are applicable to specific destination countries and territorial possessions.

242.2 Payment of Postage

[Revise the text of 242.2 as follows:]

A mailer of a First-Class Mail International item may pay postage with a postage stamps, a postage meter stamps, a postage validation imprinter (PVI) label, or a permit imprint.

[Revise the title of 243 as follows:]

243 Physical Characteristics

* * * * *

[Revise the title of 243.2 as follows:]

243.2 Dimensions

* * * * *

243.24 Nonmachinable Surcharge

[Revise the introductory text of 243.24 as follows:]

A $0.20 per-piece surcharge is applied to a First-Class Mail International item that weighs 1 ounce or less, if it has one or more of the following characteristics:

* * * * *

[Revise the title of 244 as follows:]

244 Mail Preparation

* * * * *

244.2 Marking

[Revise items a and b by replacing “Letter-post” with “First-Class Mail International;” revise item d by replacing “Economy (surface)” with “First-Class Mail International”; delete item c and re-letter items d and e as items c and d.]

* * * * *

244.5 Customs Forms Required

244.51 Dutiable Merchandise

* * * * *

[Revise the title of 250 as follows:]

250 Postcards and Postal Cards

251 Description

[Delete the title of 251.1. Renumber current 251.11 and 251.12 as new 251.1 and 251.11.]

251.1 General

[Revise the text of new 251.1 as follows:]

Postcards and postal cards consist of single cards sent without a wrapper or envelope. Folded (double) cards must be mailed in envelopes at the First-Class Mail International rate of postage.

* * * * *

[Delete 251.2 and 251.3 in their entireties.]

[Revise the title of 252 as follows:]

252 Postage Rates and Fees

[Revise 252 by deleting reference to Aerogrammes as follows:]

Postcards and Postal Cards

Canada and Mexico $0.69

Marshall Islands and Micronesia $0.52

All other countries $0.90

* * * * *

[Revise the title and text of 253.2 as follows (deleting the titles and texts of 253.21 and 253.22:]

253.2 Dimensions

Each card claimed at a card rate must be:

a. Rectangular.

b. Not less than 3½ inches high, 5½ inches long, and 0.007 inch thick.

c. Not more than 4¼ inches high, 6 inches long, and 0.016 inch thick.

Note: See 243.23 for larger cards.

[Revise the title of 254 as follows:]

254 Elements on the Face of a Mailpiece

* * * * *

[Revise the title of 254.2 as follows:]

254.2 Marking

254.21 Airmail

[Replace current text of 254.21 with text from 251.14. Delete current title of 251.14.]

[Delete the current 254.3 in its entirety. Renumber current 254.22 and new 254.23 as 254.3 and 254.4.]

[Renumber current 251.15 and 251.16 as new 254.5 and 254.6.]

* * * * *

260 Direct Sacks of Printed Matter to One Addressee (M-Bags)

[Revise the title of 261 as follows:]

261 Description

[Revise the title of 261.1 as follows:]

261.1 General

Direct sacks of printed matter to a single foreign addressee, which are also known as M-bags, are available to all destinations that are referenced in the “Individual Country Listings.”

[Revise the title of 261.2 as follows:]

261.2 Eligibility

* * * * *

261.22 Merchandise

* * * * *

[Delete item e.]

[Revise the title of 262 as follows:]

262 Postage Rates and Fees

[Delete the title of 262.1. Renumber current 262.11 as new 262.1.]

[Delete 262.12. Delete the title of 262.2. Renumber current 262.13 as new 262.2.]

[Renumber current 262.21 and 262.22 as new 262.3 and 262.4.]

* * * * *

[Revise the title of 263 as follows:]

263 Physical Characteristics

263.1 Weight Limits

[Revise the text in 263.1 as follows:]

There is no minimum weight requirement for the entry of airmail M-bags or International Surface (ISAL) M-bags. The maximum weight limit for M-bags is 66 pounds, which includes the tare weight of the sack.

Customers who tender M-bags that weigh less than 11 pounds are required to pay the minimum “11-pound bag charge” that is applicable to the country of destination where the sack and its contents are to be delivered.

[Revise the title and text of 263.2 as follows:]

263.2 Dimensions

There are no defined size limits for mailpieces placed in an M-bag, so long as the items being sent can be enclosed in the mailbag.

[Revise the title of 264 as follows:]

264 Elements on the Face of a Mailpiece

* * * * *

[Add new 265, Mail Preparation. Renumber current 264.2 as new 265.1. Renumber current 264.21 through 264.24 as new 265.11 through 265.14. Renumber current 264.3 as new 265.2.]

[Add title and text for 265.3 as follows:].]

265.3 Extra Services

Certificate of mailing is available. Return receipts, restricted delivery, registry service and insurance are not available with M-bags.

[Revise the title of 270 as follows:]

270 Free Matter for the Blind or Other Physically Handicapped Persons

271 Description

[Revise 271 as follows:]

271.1 General

Subject to the standards below and DMM 703, matter may be entered free of postage if mailed by or for the use of blind or other persons who cannot read or use conventionally printed materials due to a physical handicap.

271.2 Eligibility

Eligible participants must be residents of the United States, including the several states, territories, insular possessions, and the District of Columbia, or American citizens domiciled abroad.

271.3 Matter Sent to or by Blind or Other Physically Handicapped Persons

Acceptable matter and the conditions for mailing such matter that may be sent free under this standard are limited to the items described in 270 and DMM 703.

[Revise the title and text in 272 as follows:]

272 Postage Rates and Fees

The postage rate for an eligible item mailed as matter for the blind is:

a. Free when sent as First-Class Mail International.

b. The applicable rate based on the weight of the mailpiece if any level of service other than First-Class Mail International is desired.

[Revise the title of 273 as follows:]

273 Physical Characteristics

* * * * *

[Revise the title of 273.2 as follows:]

273.2 Dimensions

* * * * *

[Revise the title of 274 as follows:]

274 Elements on the Face of a Mailpiece

* * * * *

274.2 Marking

[Revise 274.2 as follows (deleting the titles and text for 274.21 and 274.22:]

First-Class Mail International accepted as free matter must be marked “Free Matter for the Blind or Handicapped” in the upper right-hand corner of the address side of the mailpiece.

[Delete 274.3 and 274.4. Add 275 as follows:]

* * * * *

275 Mail Preparation

275.1 Packaging

275.11 Postal Inspection

Matter for the blind or physically handicapped is subject to postal inspection (see ASM 274), and must be prepared in such a way that the contents are protected but inspection of the contents is not hindered.

[Insert title and text from old 274.42 as new 275.12.]

[Add new 276 as follows:]

276 Extra Services

Registered Mail and Insurance are the only extra services that can be added to mail sent as free matter for the blind or handicapped.

* * * * *

[Reserve 280.]

* * * * *

290 Commercial Services

291 (Reserved)

292 International Priority Airmail Service

[Change “letter-post” to “First-Class Mail International” throughout 292.]

292.1 Description

* * * * *

292.12 Qualifying Mail

[Revise the first sentence as follows:]

Any item of the First-Class Mail International classification, as defined in 141.5 and 141.6, qualifies, including postcards. * * *

* * * * *

292.14 Dutiable Items

[Revise 292.14 by changing “Parcel post (CP)” to “Priority Mail International (CP).”]

* * * * *

293 International Surface Air Lift (ISAL) Service

[Change “letter-post” to “First-Class Mail International” throughout 293.]

293.1 Definition

[Revise the second sentence to read as follows:]

* * * The cost is lower than First-Class Mail International. * * *

* * * * *

293.9 Preparation Requirements

* * * * *

[Delete 293.92. Renumber 293.93, 293.94, and 293.95 as 293.92, 293.93, and 293.94]

* * * * *

[Revise the title of 294 as follows and delete all text previously in 294:]

294 (Reserved)

* * * * *

[Revise the title of 295 as follows and delete all text previously in 295:]

295 (Reserved)

* * * * *

297 International Customized Mail

[Change “letter-post” to “First-Class Mail International” and change “Global Priority Mail” to “Priority Mail International” throughout 297.]

* * * * *

[Revise the heading of 3 as follows:]

3 Extra Services

310 Certificate of Mailing

* * * * *

312 Availability

[Revise 312 by deleting the words “letter-post,” “parcel post” and “recorded delivery” as follows:]

Customers can purchase a certificate of mailing when they send unregistered First-Class Mail International, post/postal cards, free matter for the blind and uninsured Priority Mail International parcels. To obtain an additional certificate after mailing, the mailer must present the original certificate and an additional certificate endorsed “Duplicate” or a copy showing the original dates of mailing. The additional certificate must be postmarked to show the current date. A certificate of mailing cannot be obtained in combination with registered mail, insured parcels, or bulk mailings of 200 pieces or more that bear a permit imprint.

313 Fees

313.1 Individual Pieces

[Revise 313.1 by changing “letter-post” to “First-Class Mail International” and “parcel post” to “Priority Mail International,” and reference that fees are linked to Domestic Case as follows:]

The fee for certificates of mailing for ordinary First-Class Mail International items and ordinary Priority Mail International parcels is $4.75 (fee is linked to domestic case currently under review by the Postal Rate Commission (PRC) per piece whether the item is listed individually on a PS Form 3817, Certificate of Mailing, or on firm mailing bills. Additional copies of PS Form 3817, or firm mailing bills, are available for $0.95 (fee is linked to domestic case currently under review by the PRC) per page. The fee is $0.95 (fee is linked to domestic case currently under review by the PRC) per article.

313.2 Bulk Pieces

[Revise 312.2 by changing “letter-post” to “First-Class Mail International,” and reference that fees are linked to Domestic Case as follows:]

PS Form 3606, Certificate of Bulk Mailing, is used to specify the total number of identical pieces of ordinary First-Class Mail International that are paid for with regular postage stamps, precanceled stamps, or meter stamps. The following certificate of mailing fees apply:

Up to 1,000 pieces | Fee is linked to domestic case currently under review by the PRC.
Each additional 1,000 pieces or fraction | Fee is linked to domestic case currently under review by the PRC.
Duplicate copy | Fee is linked to domestic case currently under review by the PRC.

* * * * *

320 Insurance

321 Description

[Revise 321 as follows:]

Insurance is provided against loss, damage, or rifling for Priority Mail International parcels. Compensation varies according to the amount of insurance coverage. For parcels delivered to the addressee in damaged condition or with missing contents, payment is made to the addressee unless the addressee waives payment, in writing, in favor of the sender. Insurance is not available for the Priority Mail International envelope.

322 Availability

[Revise 322 as follows:]

Insurance is available only for Priority Mail International parcels and only to certain countries. See Individual Country Listings. Insurance is not available for First-Class Mail International items or for the Priority Mail International envelope.

* * * * *

324 Processing Requests

324.1 Mailing Receipt and Insurance Number

324.11 General Use

[Revise 324.11 as follows:]

All insured international parcels must be numbered. PS Form 3813-P, Insured Mail Receipt, provides a numbered insurance label for the parcel and an identically numbered mailing receipt for the sender. The receipt is issued to the sender as proof of mailing and proof of payment of an insurance fee. Volume mailers may use PS Form 3877, Firm Mailing Book for Accountable Mail, as the sender's receipt. Only labels printed by the Postal Service may be used on international insured mail.

* * * * *

324.13 Sender's Responsibility

[Revise 324.13 as follows:]

Sender should enter the name and address of the addressee on the mailing receipt and retain it. The receipt must be submitted if the sender wishes to file a claim. (See Chapter 9).

* * * * *

324.5 Return Receipt

[Revise 324.5 as follows:]

Return receipts may be purchased for insured parcels mailed to some countries. See individual country listings for availability.

* * * * *

325 Indemnity Claims and Payments

[Revise 325 as follows:]

The sender must submit the original mailing receipt to file a claim (see Chapter 9).

* * * * *

330 Registered Mail

331 Description

[Revise 331 by deleting the words “and do not extend uniformly to damage or rifling of contents.”]

332 Availability

[Revise the text to read as follows:]

Customers can purchase registered mail service only when they send First-Class Mail International items, post/postal cards, and free matter for the blind items. Registered items may weigh up to 4 pounds. Registered Mail Service is not available in combination with Priority Mail International parcels, or M-bags to one addressee. See Individual Country Listings for country-specific prohibitions and restrictions.

333 Fees and Indemnity Limits

333.1 Registration Fees

[Revise 333.1 to indicate that the registered fee is linked to the domestic case as follows:]

The registry fee for all countries is $11.95 (fee is linked to domestic case currently under review by the PRC).

333.2 Indemnity Limit

[Revise 333.2 to reflect the 2007 indemnity limit as follows:]

Regardless of the declared value of a registered item, the maximum amount of indemnity payable for loss, damage, or rifling is $43.73.

334 Processing Requests

334.1 Mailing Receipt and Registration Number

* * * * *

334.12 Sender's Responsibility

[Revise item c as follows:]

* * * * *

c. The sender should retain the receipt and must submit it if he or she wishes to file a claim for the registered item (see Chapter 9).

334.13 Accepting Clerk's Responsibility

Accepting clerk must:

[Revise item a as follows:]

a. Affix Label 200, Registered Mail, to the item in the upper left side of the address side, below the return address, and enter the number in ink on the mailing receipt.

* * * * *

334.14 Preparation

[Revise 334.14 as follows:]

Items bearing an address in pencil or any other erasable format must not be accepted for registered mail service.

* * * * *

334.4 Sealing

334.41 Sender's Responsibility

[Revise the first sentence of 334.41 as follows:]

Senders must securely seal all items presented for registration.

* * * * *

[Revise title of 334.42 as follows:]

334.42 Registered Free Matter for the Blind or Other Physically Handicapped Persons

* * * * *

336 Preparation

[Delete 336 in its entirety.]

340 Return Receipt

341 Description

[Revise 341 as follows:]

PS Form 2865, Return Receipt for International Mail (Avis de Reception), is a pink card that is attached to a registered item, an insured parcel, or an Express Mail International item to certain countries (see 221.4), at the time of mailing, and which is removed and signed at the point of delivery and returned to the sender. Return Receipt service provides the sender with evidence of delivery. Return receipts are completed in the country of destination in accordance with its internal regulations, which may not require the addressee's signature except under special circumstances. These receipts are returned to the sender by airmail.

342 Availability

[Revise 342 by deleting the words “recorded delivery” to read as follows:]

Return receipts can be purchased only at the time of mailing and are available only for registered items and insured parcels. Exception: return receipts are also available to a limited number of countries for Express Mail International (see 221.4). Some countries do not allow return receipts or restrict them to registered mail. See Individual Country Listings.

343 Fee

[Revise 343 to reflect that fee is linked to domestic case as follows:]

The fee for a return receipt is $2.15 (fee is linked to domestic case currently under review by the PRC.) This fee must be paid in addition to postage and other applicable charges. Return receipt service is available at no charge for Express Mail International to certain countries.

Note: Include the weight of the return receipt when determining the postage for mailing the item.

344 Processing Requests

344.1 Form

344.11 Sender's Responsibility

[Revise 344.11 as follows:]

Sender must enter the return address on the return receipt.

344.12 Accepting Clerk's Responsibility

[Revise 344.12 as follows:]

Accepting clerk must:

a. Record the return receipt fee on the insured or registered mailing receipt.

b. Enter the address of the addressee on the return receipt.

c. Attach the return receipt to the item.

d. Affix and cancel postage equal to the sum of the return receipt fee, postage, and other applicable fees.

* * * * *

[Delete 344.3 in its entirety.]

* * * * *

344.4 Return Receipt Improperly Completed or Not Received

[Revise 344.4 read as follows:]

If the sender does not receive a return receipt for which a fee was paid, or if the sender receives an improperly completed return receipt, an inquiry may be filed. (See 920 for inquiry procedures.)

350 Restricted Delivery

* * * * *

352 Availability

* * * * *

[Revise item b by deleting “recorded delivery” as follows:]

b. For registered items.

* * * * *

[Delete 360, Recorded Delivery, in its entirety.]

* * * * *

370 Supplemental Services

* * * * *

371 International Money Orders

371.1 Description

371.11 General

[Revise 371.11 by changing “Global Express Mail service (EMS)” to “Express Mail International.”]

* * * * *

372 International Reply Coupons

* * * * *

372.3 Selling Price and Rate of Exchange

* * * * *

[Revise item b by deleting “(including aerogrammes).”]

* * * * *

4 Treatment of Outbound Mail

* * * * *

420 Shortpaid and Unpaid Mail

[Change “letter-post” to “First-Class Mail International” and “Global Express Mail” to “Express Mail International” throughout 420.]

* * * * *

5 Nonpostal Export Regulations

[Change “letter-post” to “First-Class Mail International” and “parcel post” to “Priority Mail International” throughout 5.]

* * * * *

6 Special Programs

610 Postal Qualified Wholesaler Program

* * * * *

613 Qualifying as a Wholesaler

613.1 Letter of Request

* * * * *

[Revise the address in 613.1 as follows:]

MANAGER INTERNATIONAL PRODUCTS, U.S. POSTAL SERVICE 475 L'ENFANT PLZ., SW., RM. 5726, WASHINGTON, DC 20260-5726.

* * * * *

7 Treatment of Inbound Mail

* * * * *

730 Shortpaid Mail to the United States

731 Computation of Postage Due

[Revise the handling charge in the example to correspond with the text in 731b. Center T and x within equation as in current IMM as follows:]

b. The receiving exchange office in the United States multiplies the T fraction by the U.S. international letter rate to determine the short paid amount in U.S. currency. This amount, plus a $0.50 handling charge, accounts for the postage-due amount to be collected on delivery. The postage-due formula is:

T shortpaid amount X U.S. int'l letter rate

surface letter rate of postage to U.S.

* * * + $0.50 handling charge * * *

= Postage due amount

* * * * *

[Revise the title of 750 as follows:]

750 Extra Services

754 Restricted Delivery

754.1 Inbound Registered Mail

[Revise 754.1 as follows:]

Inbound registered mail, accompanied by a return receipt and bearing the notation A Remettre en Main Propre or Restricted Delivery, should be delivered only to the addressee or their authorized agent.

* * * * *

[Delete 755, Recorded Delivery, in its entirety.]

760 Forwarding

* * * * *

762.2 Undeliverable Domestic Mail Bearing U.S. Postage and a Foreign Return Address

* * * * *

[Revise the text of item 762.2 c as follows:]

* * * * *

c. First-Class Mail containing merchandise, Standard Mail items, or Package Services parcels, which bear a foreign return address, must be held at the Post Office of the addressee, while a request for instructions is sent to International Claims, St. Louis ASC, P.O. Box 80146, St. Louis, MO 63180-0146: Requests must include the following information:

(1) Names and addresses of sender and addressee.

(2) Weight of the item and any special services.

(3) Nature and value of contents if known. The International Claims Office will contact the sender for disposition instructions, completion of the required customs forms, and payment of additional postage.

* * * * *

764 Mail of Foreign Origin

* * * * *

764.2 Forwarding to another Country

* * * * *

764.23 Parcels

* * * * *

[Add new 764.232 as follows:]

[Renumber current 764.232 as new 764.233.]

764.232 Delivery to an Alternate Addressee

If the addressee has moved to a third country or if the sender has included instructions for delivery to an alternate addressee in a third country, the Post Office facility must hold the parcel and request instructions from International Claims, St. Louis ASC, P.O. Box 80146, St. Louis, MO 63180-0146. Requests should include the following information:

a. Names and addresses of sender and addressee, or alternate addressee.

b. Weight of the parcel.

c. Whether the parcel is insured.

d. Nature and value of the contents as shown on the customs declaration.

* * * * *

770 Undeliverable Mail

771 Mail of Domestic Origin

* * * * *

[Revise the title of 771.5 as follows:]

771.5 Return Charges for First-Class Mail International

771.51 General Procedure

* * * * *

[Revise 771.51 by changing “letter-post” to “First-Class Mail International.”]

[Revise item a as follows.]

a. First-Class Mail International.

* * * * *

[Revise item d as follows:]

d. First-Class Mail International M-bag.

* * * * *

[Delete items e, f, and g.]

771.52 Exceptions

[Revise items a and b by changing “letter post” to “First-Class Mail International.”]

[Revise the title of 771.6 as follows:]

771.6 Return Charges for Priority Mail International

* * * * *

771.7 Handling of Returned Parcels

771.71 Refused by Sender

[Revise 771.71 by changing “parcel post” to “Priority Mail International.”]

* * * * *

[Add new 771.73 as follows:]

771.73 Sender Has Moved to another Country

If the sender has moved to another country, the Post Office facility must hold the parcel and request instructions from International Claims, St. Louis ASC, P.O. Box 80146, St. Louis, MO 63180-0146. Requests should include the following information:

a. New address of the sender.

b. Amount of return charges due on the parcel.

c. Weight of the parcel.

d. Whether the parcel is insured.

e. Nature and value of the contents as shown on the customs declaration.

* * * * *

780 Items Mailed Abroad by or on Behalf of Senders in the United States

* * * * *

783 Advance Payment Required

783.1 Sample Mailpiece

[Revise 783.1 to change room number in address to RM 5726.]

* * * * *

9 Inquiries, Indemnities, and Refunds

* * * * *

920 Inquiries and Claims

921 Inquiries

* * * * *

921.2 Initiating an Inquiry

[Revise the first two sentences in 921.2 as follows:]

Inquiries can be initiated for Global Express Guaranteed (GXG) items, Express Mail International items, registered items, and insured and ordinary parcels. Inquiries are not accepted for ordinary letters, or M-bags.* * *

Exhibit 921.2—Time Limits for Inquiries
[Revise the product or Extra Services column and the note in Exhibit 921.2 as follows:]
Product | Who | When (from mailing date): No sooner than . . . | When (from mailing date): No later than . . .
Global Express Guaranteed | U.S. Sender Only | 3 days | 30 days.
Express Mail International | U.S. Sender Only | 3 days | 90 days.
Express Mail International with Guarantee | U.S. Sender Only | 3 days | 30 days.
Registered items, insured or ordinary parcels | Sender or Addressee | 7 days | 6 months.
| Sender or Addressee | 30 days | 6 months.
* Inquires are not accepted on ordinary letters or M-bags.

921.3 How to Initiate

[Revise the text and change item d as follows:]

Customers must call the International Inquiry Center at 800-222-1811 within the time limits listed in Exhibit 921.2 to initiate an inquiry. Customers will be asked to provide the following minimal information:

a. Mailing receipt number or barcode number of the article.

b. Names and addresses of the mailer and the addressee.

c. Date of mailing.

d. Description of contents.

921.4 Inquiry Process

[Revise the text of 921.4 as follows:]

After the Postal Service customer provides the International Inquiry Center with the relevant mailing information, the International Inquiry Center will correspond with the appropriate foreign post and advise the customer of the results of the inquiry. Customers must allow foreign posts approximately 60 days to research and respond to the International Inquiry Center for inquiries on registered items, and insured and ordinary parcels. When there is a determination that an item has been lost, the International Inquiry Center will mail a claim packet to the customer. The packet will include a letter of instruction on how to complete and submit the claim.

921.5 General Procedures

921.51 Nondelivery

[Revise the text of 921.51 as follows:

The U.S. Postal Service will initiate an inquiry within the time frames specified in 921.2 with the destination postal administration in any case involving a GXG, Express Mail International, registered item, or insured or ordinary parcel that has not been delivered. Inquiries are not accepted for ordinary letters or M-bags.

921.52 Return Receipts Improperly Completed or Not Received

[Revise the text of 921.52 to read as follows:]

If the sender receives an improperly completed return receipt or a return receipt is not received, the sender may file an inquiry about the delivery of the article by calling 800-222-1811.

921.53 Rifled Parcels

[Revise title and text of 921.53 as follows:]

921.53 Damaged or Rifled Parcels, Registered Mail, and Express Mail International

Customer must go to a Post Office to report instances of damaged or rifled items. Postal personnel should complete PS Form 673, Report of Rifled Parcel, in accordance with POM 169.3. Form 2856, Damage Report of Insured Parcel and Contents, should also be completed in accordance with POM 146.112 for all international insured and ordinary parcels, registered mail, and Express Mail International.

* * * * *

922 Claims

922.1 General Description

[Revise the first sentence in 922.1 as follows:]

A claim is a request by a U.S. Postal Service customer for an indemnity payment that resulted in the loss, damage, or rifling of a GXG, Express Mail International, registered item, or insured or ordinary parcel. See 221.3, 237, 320, 330, and country listings for information on indemnity limits.* * *

922.2 Filing a Claim

[Revise 922.2 as follows:]

Claims may be filed for GXG, Express Mail International, registered items, and insured and ordinary parcels as noted in Exhibit 922.2. Claims may not be filed for ordinary letters or M-bags. Claims for registered items, and insured and ordinary parcels may not be filed until after an inquiry has been completed in accordance with the procedures in 921. Claims for rifled or damaged articles should be filed immediately. Claims for registered items, insured, and ordinary parcels delivered to the addressee in damaged condition or with missing contents are payable only to the addressee, unless the addressee waives their right to payment, in writing, in favor of the sender. All claims for inbound international registered items and insured and ordinary parcels received in damaged condition or with missing contents, must be supported by Form 2856. If the addressee does not accept delivery and the item is returned to the sender, the sender will be the payee.

Filing Claims
[Revise the Product and Who column and the note in Exhibit 922.2 as follows:]
Product | Who | How: Lost Article | How: Damaged/Rifled
GXG and Express Mail International | U.S. Sender Only | 800-222-1811 | 1-800-222-1811
GXG and Express Mail International (article returned to sender) | U.S. Sender Only | N/A | Any Post Office* (PS Form 2855)
Registered item, insured parcel, ordinary parcel | U.S. Sender or Addressee | 800-222-1811 | Any Post Office* (PS Form 2855)
* Must present the article, mailing container, wrapping, packaging, and any other contents received in damaged condition or with missing contents to a post office immediately.

* * * * *

922.3 Claims Process

* * * * *

922.31 Proof of Mailing

* * * * *

[Revise text of 922.31 and items a (2), (3), and (4) to read as follows:]

Indemnity claims for GXG, Express Mail International, registered mail, and insured and ordinary parcels must be supported as follows:

a. If mailed in the United States:

(1) For Global Express Guaranteed items, the original receipt of the GXG Air Waybill/Shipping Invoice.

(2) For Express Mail International items, PS Form 2861, Express Mail International Service Inquiry, received from the International Inquiry Center.

(3) For registered items and insured parcels, the original mailing receipt issued at the time of mailing. Copies are not acceptable.

(4) For ordinary parcels, the customer copy of PS Form 2976-A, Customs Declaration and Dispatch Note—CP 72.

[Add a new note after item b as follows:]

b. If mailed from a foreign country: The original mailing receipt if available, the customs label, the wrapper, and any other markings or endorsements on the mailing container that indicate how it was sent.

Note: Mailing particulars must also be verified with the country of origin before a claim can be settled.

* * * * *

922.4 Processing Claims for Rifled or Damages Articles

* * * * *

922.42 Postal Service

* * * * *

[Revise the text of 922.42b and delete the last sentence “There is no fee for processing a claim.” to read as follows:]

Postal Service personnel must:

a. Complete sections III and IV of PS Form 2855.

b. Prepare a damage report on Form 2856, Damage Report of Insured Parcel and Contents, detailing the condition of the item at the time of delivery, and indicate whether or not the item was properly packaged to withstand normal handling in international mail.

c. Attach the damage report and the documentation described in 922.3 to the claim.

d. Send PS Form 2855 and related documents, including the customs label and the wrapper, if appropriate, to: International Claims, St. Louis ASC, PO Box 80146, St. Louis, MO 63180-0146.

* * * * *

923 Disposition of Damaged Mail

[Revise the introductory sentence of 923 and item b to read as follows:]

Dispose of damaged registered mail, insured parcels, and ordinary parcels for which claims have been filed as follows:

* * * * *

b. International insured parcels, ordinary parcels, and Canadian registered mail:

* * * * *

930 Indemnity Payments

931 Adjudication and Approval

* * * * *

931.2 International Claims

[Revise title and text of 931.21 by changing “Parcel Post” to “Parcels”, and text as follows:]

931.21 Indemnity Claims for International Registered Mail, Insured Parcels, and Ordinary Parcels of U.S. and Foreign Origin

Indemnity Claims relating to international registered mail, insured and ordinary parcels of both U.S. and foreign origin are adjudicated by the St. Louis Accounting Service Center.

931.22 Country of Origin Pays Indemnity

[Revise 931.22 as follows:]

Payment is made as follows:

a. Express Mail claims are paid by the country of origin to the sender. Payments to U.S. senders will by made by the U.S. Postal Service.

b. Indemnity for the loss of registered mail, insured parcels and ordinary parcels is paid by the country of origin to the sender. Payments to U.S. senders will be made by the U.S. Postal Service. The sender may waive their right to payment, in writing, in favor of the addressee. Payment in such cases will be made by the destination administration.

c. Claims for items delivered in damaged condition or with missing contents may be made to the addressee by the destination administration. If the addressee waives their right to payment, in writing, in favor of the U.S. sender, payment will be made to the sender by the U.S. Postal Service.

d. Claims for items mailed in foreign administrations that are delivered in damaged condition or with missing contents may be paid to the addressee. Payments will be made to the U.S. addressee by the U.S. Postal Service. The addressee may waive their right to payment in favor of the sender. Payment in such cases will be made by the origin administration.

* * * * *

[Revise title of 932 as follows:]

932 General Exceptions to Payment—Registered Mail, and Insured Parcels, and Ordinary Parcels

* * * * *

[Revise title of 933 by changing “Parcel Post” to “Parcels.”]

933 Payments for Insured Parcels and Ordinary Parcels

933.1 General Provisions

[Revise title and text of 933.11 as follows:]

933.11 Insured Parcels

Indemnity may be paid for loss, rifling, or damage, based on the actual value of articles at the time and place of mailing.

933.12 Indemnity Will Not Be Paid

[Revise third sentence of item d(3) to read as follows:]

In addition to the general exceptions to payment described in 932, indemnity will not be paid:

d. For parcels that:

(3) Were not posted in the manner prescribed. In the event of loss, rifling, or damage of mail erroneously accepted for insurance to other countries, limited indemnity may be paid as if it had been addressed to a domestic destination, i.e. on the basis of the indemnity limits for domestic insured mail. If postage was erroneously collected at other than a parcel rate, but the parcel was otherwise properly accepted for insurance, indemnity may be paid pursuant to the general provisions of this section and the special provisions of 933.2.

* * * * *

[Revise titles of 933.13 and 933.14 by changing “Parcel Post” to “Parcels.”]

933.13 Ordinary Parcel Post—Indemnity Limitations

* * * * *

933.14 Ordinary Parcel Post—Exceptions to Indemnity

* * * * *

934 Payments for Registered Mail

[Revise title and text of 934.12 as follows:]

934.1 General Provisions

* * * * *

934.12 Parcel Post Erroneously Accepted

934.12 Parcels Erroneously Accepted as Registered Mail

If a parcel is accepted in error as registered mail, indemnity may be paid under the conditions in 934.2.

934.13 Indemnity Will Not Be Paid

* * * * *

[Revise item b to read as follows:]

b. To anyone in the United States, other than the addressee, for items delivered in damaged condition or with missing contents. The addressee may waive payment, in writing, in favor of the sender.

* * * * *

934.2 Special Provisions

[Revise amount payable in 934.2 to “$43.73.”]

* * * * *

[Revise 935 by changing “Global Express Mail” and “Global Express Mail (EMS)” to “Express Mail International” throughout.]

* * * * *

940 Postage Refunds

[Revise 941 by changing “letter-post” and “parcel post” to “First-Class Mail International” and Priority Mail International” throughout.]

* * * * *

[Revise 942 by changing “Global Express Mail” and “EMS” to “Express Mail International” throughout.]

* * * * *

942 Postage Refunds for Express Mail International Items

* * * * *

942.5 Unallowable Refund—Express Mail International With No Service Guarantee

* * * * *

942.53 Consequential Damages

[Add new last sentence to 942.53 as follows:]

See DMM 609 and 503, and IMM 221.3 and 935.2 for limitations of indemnity coverage.

943 Processing Refund Applications

943.1 Items Originating in the United States

[Revise first sentence 943.1 as follows:]

Requests for refunds for ordinary letters, registered mail, insured parcels, and ordinary parcels originating in the United States, and Express Mail International with Guarantee are handled as follows:* * *

[Revise item b by deleting “Recorded Delivery” and changing “parcel post” to “parcel.”]

[Revise item c by changing “EMS” to “Express Mail International.”]

* * * * *

We will publish an appropriate amendment to 39 CFR part 20 to reflect these changes if our proposal is adopted.

Neva R. Watson,
Attorney, Legislative.

[FR Doc. E6-21750 Filed 12-19-06; 8:45 am]

BILLING CODE 7710-12-P